ENVIRONMENTAL PROTECTION AGENCY

40 CFR Part 52

[EPA-R09-OAR-2024-0527; FRL-12400-01-R9]

Air Plan Approval; California; Revised Format for Materials Incorporated by Reference

AGENCY: Environmental Protection Agency (EPA).

ACTION: Final rule; administrative change.

SUMMARY: The Environmental Protection Agency (EPA) is revising the format for materials submitted by the State of California that are incorporated by reference into the California State Implementation Plan (SIP). The regulations and other materials affected by this format change have all been previously submitted by the State of California and approved by the EPA. This format revision will primarily affect the “Identification of plan—in part” sections, as well as the format of the SIP materials that will be available for public inspection at the EPA Regional Office and the National Archives and Records Administration (NARA). This action, which only relates to local ordinances and certain local and regional California air district rules, is the second of a series of actions intended to change the format for the entire California SIP.

DATES: This rule is effective on June 4, 2025.

ADDRESSES: The EPA has established a docket for this action under Docket ID No. EPA-R09-OAR-2024-0527. SIP materials which are incorporated by reference into 40 CFR part 52 are available for inspection by appointment at Environmental Protection Agency, Region IX, 75 Hawthorne Street, San Francisco, CA 94105-3901. For information on the availability of this material at the EPA Regional Office, please contact the person in the FOR FURTHER INFORMATION CONTACT section of this document.

FOR FURTHER INFORMATION CONTACT: Mae Wang, EPA Region IX, 75 Hawthorne St., San Francisco, CA 94105; telephone: (415) 947-4137; email address: wang.mae@epa.gov.

SUPPLEMENTARY INFORMATION: Throughout this document, the terms “we”, “us,” and “our” refer to the EPA. This supplementary information section is organized as follows:

Table of Contents

I. Background

A. Description of a SIP

B. How the EPA Enforces SIPs

C. How the State and the EPA Update the SIP

D. How the EPA Compiles the SIPs

E. How the EPA Organizes the SIP Compilation

F. Where You Can Find a Copy of the SIP Compilation

G. The Format of the California Identification of Plan Sections

H. When a SIP Revision Becomes Federally Enforceable

I. The Historical Record of SIP Revision Approvals

II. What the EPA Is Doing in This Action

III. Incorporation by Reference

IV. Statutory and Executive Order Reviews

I. Background

A. Description of a SIP

Each State has a SIP containing, among other things, the control measures and strategies used to attain and maintain the national ambient air quality standards (NAAQS). The SIP is extensive, containing such elements as air pollution control regulations, emission inventories, monitoring networks, attainment demonstrations, and enforcement mechanisms.

B. How the EPA Enforces SIPs

Each State must formally adopt the control measures and strategies to attain and maintain the NAAQS after the public has had an opportunity to comment on them. They are then submitted to the EPA as requested SIP revisions upon which the EPA must formally act. Once these control measures and strategies are approved by the EPA, after notice and comment rulemaking, they are incorporated into the federally approved SIP and are identified in part 52 (Approval and Promulgation of Implementation Plans), title 40 of the Code of Federal Regulations (40 CFR part 52). The EPA uses the process of incorporation by reference (IBR) to incorporate material into the CFR by referencing the original document(s) without publishing the full text of the material. The actual State regulations approved by the EPA are not reproduced in their entirety in 40 CFR part 52 but are “incorporated by reference,” which means that the EPA has approved a given State regulation with a specific effective date. This format allows both the EPA and the public to know which measures are contained in a given SIP and to help determine whether the State is enforcing the regulations. This format also assists the EPA and the public in taking enforcement action, should a State not enforce its SIP-approved regulations.

C. How the State and the EPA Update the SIP

The SIP is a dynamic document, which the State can revise as necessary to address the unique air pollution problems in the state. Therefore, the EPA must periodically take action on State SIP revisions containing new and/or revised regulations and other materials in order to make them part of the federally-approved SIP. The EPA establishes a docket for its actions using a unique Docket Identification Number, which is listed in each action. These dockets and the complete submissions are available for viewing on www.regulations.gov.

On May 22, 1997 (62 FR 27968), the EPA revised the formatting procedures for incorporating by reference federally-approved SIP revisions, as a result of consultations between the EPA and the Office of the Federal Register. These procedures include: (1) a revised SIP document for each State that would use the IBR process under the provisions of title 1 CFR part 51; (2) a revised mechanism for announcing the EPA's approval of revisions to an applicable SIP and updating both the document that has gone through the IBR process and the CFR; and (3) a revised format of the “Identification of Plan” sections for each applicable subpart in 40 CFR part 52 to reflect these revised IBR procedures. The description of the revised SIP document, IBR procedures, and “Identification of plan” format are discussed in further detail in the May 22, 1997 Federal Register document. We have taken action to revise the format for many State SIPs, see, e.g., 40 CFR 52.1470 and 52.1490 (“Identification of plan” and “Original identification of plan” sections for the State of Nevada SIP), and take a second step today toward revising the format of the California SIP.

D. How the EPA Compiles the SIPs

Under the revised SIP format, the federally-approved regulations, source-specific requirements, and nonregulatory provisions (entirely or portions of) submitted by each State agency have been compiled by the EPA into a “SIP compilation.” The SIP compilation contains the regulations, source-specific requirements, and nonregulatory and quasi-regulatory provisions approved by the EPA through previous rulemaking actions published in the Federal Register.

E. How the EPA Organizes the SIP Compilation

Each compilation contains three parts. Part one contains the regulations, part two contains the source-specific requirements, and part three contains the nonregulatory and quasi-regulatory provisions that have been approved by EPA as part of the SIP. Each part consists of a table or tables of identifying information for each SIP-approved regulation, each SIP-approved source-specific requirement, and each nonregulatory or quasi-regulatory SIP provision. The EPA Regional Offices have the primary responsibility for updating the compilations and ensuring their accuracy.

Given the size of the California SIP, the EPA is revising the format of the California SIP in a phased manner. In 2016, the EPA took the first action and published the tables listing the State statutes and regulations, and the California test procedures, test methods and specifications that EPA had previously approved into the applicable California SIP.¹ In this second action, the EPA is publishing the tables listing EPA-approved local ordinances as well as EPA-approved rules adopted by eight local or regional California air districts.

¹ 81 FR 33397 (May 26, 2016).

F. Where You Can Find a Copy of the SIP Compilation

EPA Region IX has developed and will maintain the SIP compilation for California. A copy of the full text of California's regulatory and source-specific SIP compilation will also be maintained at NARA.

G. The Format of the California Identification of Plan Sections

The California SIP is found in 40 CFR part 52 (“Approval and promulgation of implementation plans”), subpart F (“California”), § 52.220 (“Identification of plan—in part”) and § 52.220a (“Identification of plan—in part”). Section 52.220 currently lists air district rules, local ordinances, source-specific requirements, and nonregulatory and quasi-regulatory provisions approved as part of the SIP and also lists State statutes and State regulations approved on or prior to April 1, 2016. Section 52.220a currently lists State statutes and State regulations approved after April 1, 2016, but also lists State statutes and State regulations that remain in the current applicable SIP because they were approved on or before April 1, 2016, and have not yet been superseded or removed.

As noted above, on May 26, 2016 (81 FR 33397), the EPA began revising the IBR procedures for California by revising the format for approved State statutes and State regulations. In preparation for future actions to revise the format of the remaining portions of the California SIP, the May 26, 2016 action also organized 40 CFR 52.220a into five subsections: (a) Purpose and scope; (b) Incorporation by reference; (c) EPA-approved regulations; (d) EPA-approved source-specific requirements; and (e) EPA-approved nonregulatory provisions and quasi-regulatory measures such as transportation control measures, certain nonregulatory statutory provisions, control strategies, and monitoring networks.

In this action, we are revising the format for portions of the California SIP related to local ordinances and the rules adopted by the following eight California air districts: Amador Air District, Antelope Valley Air Quality Management District (AQMD), Bay Area AQMD, Butte County AQMD, Calaveras County Air Pollution Control District (APCD), Colusa County APCD, Eastern Kern APCD, and El Dorado County AQMD. This format revision involves materials approved on or before April 17, 2025, that are part of the current applicable SIP. All subsequent actions by the EPA to approve California SIP revisions related to local ordinances or these eight air districts will be promulgated in 40 CFR 52.220a, paragraph (c) using the new table format. EPA approvals of source-specific requirements, nonregulatory and quasi-regulatory provisions, and rules from air districts other than these eight air districts will continue to be promulgated in 40 CFR 52.220 using the paragraph format.

Over time, as the EPA completes further rulemaking actions to convert the format of the California SIP, § 52.220a will include a growing number of air district rules, local ordinances, source-specific requirements, and nonregulatory and quasi-regulatory provisions. Once the conversion process is completed, the EPA will redesignate § 52.220a as § 52.220 and rename it simply “Identification of plan.” At that point, all subsequent actions by the EPA to approve California SIP revisions will be promulgated using the new table format.

H. When a SIP Revision Becomes Federally Enforceable

All revisions to the applicable SIP become federally enforceable as of the effective date of the revision to the applicable “Identification of plan” section found in each subpart of 40 CFR part 52. All future revisions to the relevant portion of the applicable SIP being converted to the new table format in this action become federally enforceable as of the effective date of the revisions to paragraph (c) of § 52.220a, in subpart F of 40 CFR part 52.

I. The Historical Record of SIP Revision Approvals

To facilitate enforcement of previously approved SIP provisions and provide a smooth transition to the new SIP processing system, the EPA will retain the “Identification of plan—in part” section for California appearing in 40 CFR 52.220 until the conversion process is completed. After the conversion of the entire California SIP is completed, the “Identification of plan—in part” section will be moved to 40 CFR 52.250. After an initial two-year period, the EPA will review its experience with the new SIP processing system and decide whether to retain the “Identification of plan—in part” section for some further period.

II. What the EPA Is Doing in This Action

In this action, the EPA is revising the format for portions of the applicable California SIP related to local ordinances and the rules from the following eight air districts: Amador Air District, Antelope Valley AQMD, Bay Area AQMD, Butte County AQMD, Calaveras County APCD, Colusa County APCD, Eastern Kern APCD, and El Dorado County AQMD. This format revision involves materials approved on or before April 17, 2025, that are part of the current applicable SIP. This action constitutes a “housekeeping” exercise to ensure that all EPA-approved revisions to the State programs that have occurred are accurately reflected in 40 CFR part 52. The requirements that apply to states and that relate to SIPs and SIP revisions are set forth in the Clean Air Act and in the EPA's regulations at 40 CFR part 51. When the EPA receives a formal SIP revision request, the Agency must publish the proposed revision in the Federal Register and provide for public comment before approval.

The EPA has determined that this rule falls under the “good cause” exemption in section 553(b)(B) of the Administrative Procedure Act (APA) which, upon finding “good cause,” authorizes agencies to dispense with public participation and section 553(d)(3) which allows an agency to make a rule effective immediately, thereby avoiding the 30-day delayed effective date otherwise provided for in the APA. This action simply reformats and recodifies provisions which are already in effect as a matter of law in Federal and approved State programs. Under section 553 of the APA, an agency may find good cause where notice and public procedure are “impractical, unnecessary, or contrary to the public interest.” Public comment is “unnecessary” and “contrary to the public interest” for this action because the EPA is merely reformatting and recodifying existing law. Immediate notice in the CFR benefits the public by removing outdated citations and making the IBR format clearer and more user-friendly.

III. Incorporation by Reference

In this rule, the EPA is finalizing regulatory text that includes incorporation by reference. In accordance with requirements of 1 CFR 51.5, the EPA is reformatting the materials incorporated by reference in previous rulemakings on submittal of the California SIP and SIP revisions, as described in section II. of this preamble. The EPA has made, and will continue to make, these documents generally available through www.regulations.gov and at the appropriate EPA office (see the ADDRESSES section of this preamble for more information).

IV. Statutory and Executive Order Reviews

A. General Requirements

This action does not impose additional requirements beyond those previously approved into the SIP and already imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not subject to Executive Order 13045 (62 FR 19885, April 23, 1997) because it is an administrative action related to State program approval;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply reformats and recodifies provisions that are already in effect as a matter of law in Federal and approved State programs. 5 U.S.C. 802(2). As stated previously, the EPA has made such a good cause finding, including the reasons therefore, and established an effective date of June 4, 2025. The EPA will submit a report containing this rule and other required information to the U.S. Senate, the U.S. House of Representatives, and the Comptroller General of the United States prior to publication of the rule in the Federal Register. This action is not a “major rule” as defined by 5 U.S.C. 804(2).

C. Petitions for Judicial Review

The EPA has also determined that the provisions of section 307(b)(1) of the CA A pertaining to petitions for judicial review are not applicable to this action. Prior EPA rulemaking actions for each individual component of the California SIP compilation had previously afforded interested parties the opportunity to file a petition for judicial review in the United States Court of Appeals for the appropriate circuit within 60 days of such rulemaking action. Thus, the EPA believes judicial review of this action under section 307(b)(1) is not available.

List of Subjects in 40 CFR Part 52

Environmental protection, Air pollution control, Carbon oxides, Incorporation by reference, Intergovernmental relations, Lead, Nitrogen oxides, Ozone, Particulate matter, Reporting and recordkeeping requirements, Sulfur oxides, Volatile organic compounds.

Dated: May 21, 2025.
Joshua F.W. Cook,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by revising the introductory text to read as follows:

§ 52.220 Identification of plan—in part.

This section identifies the local and regional air district rules, local ordinances, source-specific requirements, and nonregulatory materials submitted by the State of California and approved as part of the California State implementation plan. This section also identifies California statutes and State regulations submitted by the State of California and approved as part of the California State implementation plan on or prior to April 1, 2016. New or amended California statutes and State regulations approved after April 1, 2016, are identified in § 52.220a. New or amended local ordinances approved after April 17, 2025, are identified in § 52.220a. New or amended air district rules approved after April 17, 2025, are identified in § 52.220a for the following air districts: Amador Air District, Antelope Valley Air Quality Management District, Bay Area Air Quality Management District, Butte County Air Quality Management District, Calaveras County Air Pollution Control District, Colusa County Air Pollution Control District, Eastern Kern Air Pollution Control District, and El Dorado County Air Quality Management District.

* * * * *

3. Section 52.220a is amended by revising paragraphs (a) and (b) and tables 3 through 11 to paragraph (c) to read as follows:

§ 52.220a Identification of plan—in part.

(a) Purpose and scope. This section sets forth a portion of the applicable State implementation plan for the State of California under section 110 of the Clean Air Act, 42 U.S.C. 7401-7671q and 40 CFR part 51 to meet national ambient air quality standards.

(b) Incorporation by reference. (1) Material listed in paragraphs (c) and (d) of this section with an EPA approval date on or prior to the dates listed in this paragraph (b)(1) was approved for incorporation by reference by the Director of the Federal Register in accordance with 5 U.S.C. 552(a) and 1 CFR part 51. Material is incorporated as it exists on the date of the approval and notice of any change in the material will be published in the Federal Register. Entries in tables 1 through 39 to paragraph (c) of this section with EPA approval dates after the dates listed in this paragraph (b)(1) have been approved by the EPA for inclusion in the State implementation plan and will be incorporated by reference in the next update to the SIP compilation.

(i) EPA-Approved Statutes and State Regulations. Material listed in table 1 to paragraph (c) of this section was approved by EPA for inclusion in the SIP on April 1, 2016.

(ii) EPA-Approved California Test Procedures, Test Methods, and Specifications. Material listed in table 2 to paragraph (c) of this section was approved by EPA for inclusion in the SIP on April 1, 2016.

(iii) EPA-Approved Local Jurisdiction Ordinances and Municipal Code: Coachella Valley Local Jurisdictions, Town of Mammoth Lakes, City of Portola. Material listed in table 3 to paragraph (c) of this section was approved by EPA for inclusion in the SIP on April 17, 2025.

(iv) EPA-Approved Amador Air District Regulations. Material listed in table 4 to paragraph (c) of this section was approved by EPA for inclusion in the SIP on April 17, 2025.

(v) EPA-Approved Antelope Valley Air Quality Management District Regulations; Los Angeles County Air Pollution Control District Regulations; Southern California Air Pollution Control District Regulations; South Coast Air Quality Management District Regulations (Applicable in Antelope Valley). Material listed in table 5 to paragraph (c) of this section was approved by EPA for inclusion in the SIP on April 17, 2025.

(vi) EPA-Approved Bay Area Air Quality Management District Regulations. Material listed in table 6 to paragraph (c) of this section was approved by EPA for inclusion in the SIP on April 17, 2025.

(vii) EPA-Approved Butte County Air Quality Management District Regulations. Material listed in table 7 to paragraph (c) of this section was approved by EPA for inclusion in the SIP on April 17, 2025.

(viii) EPA-Approved Calaveras County Air Pollution Control District Regulations. Material listed in table 8 to paragraph (c) of this section was approved by EPA for inclusion in the SIP on April 17, 2025.

(ix) EPA-Approved Colusa County Air Pollution Control District Regulations. Material listed in table 9 to paragraph (c) of this section was approved by EPA for inclusion in the SIP on April 17, 2025.

(x) EPA-Approved Eastern Kern Air Pollution Control District Regulations; Kern County Air Pollution Control District Regulations. Material listed in table 10 to paragraph (c) of this section was approved by EPA for inclusion in the SIP on April 17, 2025.

(xi) EPA-Approved El Dorado County Air Quality Management District Regulations. Material listed in table 11 to paragraph (c) of this section was approved by EPA for inclusion in the SIP on April 17, 2025.

(2) EPA Region IX certifies that the rules/regulations provided by EPA in the SIP compilation at the addresses in paragraph (b)(3) of this section are an exact duplicate of the officially promulgated rules/regulations which have been approved as part of the State implementation plan as of the dates referenced in paragraph (b)(1) of this section.

(3) Copies of the materials incorporated by reference may be inspected at the EPA Region IX office at 75 Hawthorne Street, San Francisco, CA 94105. To obtain the material, please call (415) 947-8000. You may view this material at the National Archives and Records Administration (NARA). For information on the availability of this material at NARA, visit www.archives.gov/federal-register/cfr/ibr-locations or email fr.inspection@nara.gov.

(c) * * *

* * * * *

Table 3—EPA-Approved Local Jurisdiction Ordinances and Municipal Code: Coachella Valley Local Jurisdictions, Town of Mammoth Lakes, City of Portola
Ordinance No. or code citation | Title/subject | State effective date | EPA approval date | Additional explanation
Coachella Valley Local Jurisdictions
City of Cathedral City Ordinance No. 583 | An Ordinance of the City Council of the City of Cathedral City to Establish Minimum Requirements for Construction and Demolition Activities and Other Specific Sources in order to Reduce Man-Made Fugitive Dust and the Corresponding PM10 Emissions | February 14, 2004 | November 14, 2005, 70 FR 69081 | Adopted on January 14, 2004. Submitted on November 16, 2004. See 40 CFR 52.220(c)(340)(i)(B)(1).
City of Coachella Ordinance No. 896 | An Ordinance of the City Council of the City of Coachella, California, Repealing Article X of Chapter 10 of the City of Coachella Municipal Code and Adding Article X to Chapter 10 to the Coachella Municipal Code to Adopt, Implement, and Enforce Fugitive Dust Control Measures in the City of Coachella | November 8, 2003 | November 14, 2005, 70 FR 69081 | Adopted on October 8, 2003. Submitted on November 16, 2004. See 40 CFR 52.220(c)(340)(i)(B)(1).
City of Desert Hot Springs Ordinance No. 2003-16 | An Ordinance of the City Council of the City of Desert Hot Springs Approving Revised Regulations Concerning the Control of Fugitive Dust (PM10) From Man-Made and Other Specified Sources, Replacing the Existing Regulations Within Title XV of the Desert Hot Springs Municipal Code | November 7, 2003 | November 14, 2005, 70 FR 69081 | Adopted on October 7, 2003. Submitted on November 16, 2004. See 40 CFR 52.220(c)(340)(i)(B)(1).
City of Indian Wells Ordinance No. 545 | An Ordinance of the City Council of the City of Indian Wells, California, Adding Sections 8.04.025 and 8.04.026 and Amending Chapter 8.20 of the Indian Wells Municipal Code, and Adopting the Coachella Valley Fugitive Dust Control Handbook | December 6, 2003 | November 14, 2005, 70 FR 69081 | Adopted on November 6, 2003. Submitted on November 16, 2004. See 40 CFR 52.220(c)(340)(i)(B)(1).
City of Indio Ordinance No. 1357 | Ordinance of the City Council of the City of Indio, California, Approving Fugitive Dust Control Ordinance Which Replaces the Existing Fugitive Dust Control of the Indio Municipal Code Section 95.131A through 95.135A | April 1, 2004 | November 14, 2005, 70 FR 69081 | Adopted on December 3, 2003. Submitted on November 16, 2004. See 40 CFR 52.220(c)(340)(i)(B)(1).
City of La Quinta Ordinance No. 391 | An Ordinance of the City Council of the City of La Quinta, California, Repealing and Replacing Chapter 6.16 of the La Quinta Charter and Municipal Code Relating to Fugitive Dust Control | January 2, 2004 | November 14, 2005, 70 FR 69081 | Adopted on December 2, 2003. Submitted on November 16, 2004. See 40 CFR 52.220(c)(340)(i)(B)(1).
City of Palm Desert Ordinance No. 1056 | An Ordinance of the City Council of the City of Palm Desert, California, Adding Chapter 24.12 to the Palm Desert Municipal Code, Superseding the Current Ordinance | December 13, 2003 | November 14, 2005, 70 FR 69081 | Adopted on November 13, 2003. Submitted on November 16, 2004. See 40 CFR 52.220(c)(340)(i)(B)(1).
City of Palm Springs Ordinance No. 1639 | An Ordinance of the City of Palm Springs, California, Repealing Existing Chapter 8.50 in its Entirety and Adding Section 8.50 of the Palm Springs Municipal Code Relating to Fugitive Dust Control | December 5, 2003 | November 14, 2005, 70 FR 69081 | Adopted on November 5, 2003. Submitted on November 16, 2004. See 40 CFR 52.220(c)(340)(i)(B)(1).
City of Rancho Mirage Ordinance No. 855 | An Ordinance of the City Council of the City of Rancho Mirage Replacing Chapter 7.01 of the Rancho Mirage Municipal Code “Control of PM-10, Fugitive Dust and Other Emissions” | January 19, 2004 | November 14, 2005, 70 FR 69081 | Fugitive dust control ordinance adopted on December 18, 2003. Submitted on November 16, 2004. See 40 CFR 52.220(c)(340)(i)(B)(1).
City of Rancho Mirage Ordinance No. 863 | An Ordinance of the City Council of the City of Rancho Mirage Amending Rancho Mirage Municipal Code Chapter 7.01, Control of PM10 Fugitive Dust and Other Emissions, Section 7.01.042(9), Construction and Demotion Activities | May 30, 2004 | November 14, 2005, 70 FR 69081 | Adopted on April 29, 2004. Submitted on November 16, 2004. See 40 CFR 52.220(c)(340)(i)(B)(1).
County of Riverside Ordinance No. 742.1 | An Ordinance of the County of Riverside Amending Ordinance No. 742 Relating to the Control of Fugitive Dust and the Corresponding PM10 Emission in the Coachella Valley, and also Adopting the Coachella Valley Fugitive Dust Control Handbook Produced by the Air Quality Management District (AQMD) | February 11, 2004 | November 14, 2005, 70 FR 69081 | Adopted on January 13, 2004. Submitted on November 16, 2004. See 40 CFR 52.220(c)(340)(i)(B)(1).
Town of Mammoth Lakes
Town of Mammoth Lakes Municipal Code, Chapter 8.30 (except paragraphs 8.30.110 and 8.30.120) | Particulate Emissions Regulations | July 5, 2014 | June 30, 2017, 82 FR 29762 | Adopted through Ordinance No. 14-06 on June 4, 2014. Submitted on November 6, 2014. See 40 CFR 52.220(c)(457)(i)(I)(2).
City of Portola
Ordinance No. 359, Portola Municipal Code, Chapter 15.10, “Wood Stove and Fireplace Ordinance and the Prohibition of the Open Burning of Yard Waste,” except paragraph 15.10.060 B., section 15.10.100, and section 15.10.110 | An Ordinance of the City of Portola, County of Plumas Amendment Chapter 15.10 of the City of Portola Municipal Code Providing for Regulation of Wood Stoves and Fireplaces and the Prohibition of the Open Burning of Yard Waste | October 9, 2020 | March 3, 2021, 86 FR 12263 | Adopted by the City of Portola on September 9, 2020. Submitted on December 29, 2020. See 40 CFR 52.220(c)(553)(i)(A)(1)(i).

Table 4—EPA-Approved Amador Air District Regulations
District rule No. | Title/subject | State effective date | EPA approval date | Additional explanation
Original Codification of Rules and Regulations
Regulation III—Permits
1 | Authority to Construct | September 14, 1971 | September 22, 1972, 37 FR 19812 | Submitted on June 30, 1972. See 40 CFR 52.220(c)(6).
5 | Exemptions | September 14, 1971 | September 22, 1972, 37 FR 19812 | Submitted on June 30, 1972. See 40 CFR 52.220(c)(6).
6 | Transfer | September 14, 1971 | September 22, 1972, 37 FR 19812 | Submitted on June 30, 1972. See 40 CFR 52.220(c)(6).
7 | Applications | September 14, 1971 | September 22, 1972, 37 FR 19812 | Submitted on June 30, 1972. See 40 CFR 52.220(c)(6).
8 | Cancellation | September 14, 1971 | September 22, 1972, 37 FR 19812 | Submitted on June 30, 1972. See 40 CFR 52.220(c)(6).
9 | Action on Application | September 14, 1971 | September 22, 1972, 37 FR 19812 | Submitted on June 30, 1972. See 40 CFR 52.220(c)(6).
10 | Provisions of Sampling and Testing Facilities | September 14, 1971 | September 22, 1972, 37 FR 19812 | Submitted on June 30, 1972. See 40 CFR 52.220(c)(6).
11 | Standards for Granting Applications | September 14, 1971 | September 22, 1972, 37 FR 19812 | Submitted on June 30, 1972. See 40 CFR 52.220(c)(6).
12 | Conditional Approval | September 14, 1971 | September 22, 1972, 37 FR 19812 | Submitted on June 30, 1972. See 40 CFR 52.220(c)(6).
13 | Denial of Application | September 14, 1971 | September 22, 1972, 37 FR 19812 | Submitted on June 30, 1972. See 40 CFR 52.220(c)(6).
14 | Further Information | September 14, 1971 | September 22, 1972, 37 FR 19812 | Submitted on June 30, 1972. See 40 CFR 52.220(c)(6).
15 | Applications Deemed Denied | September 14, 1971 | September 22, 1972, 37 FR 19812 | Submitted on June 30, 1972. See 40 CFR 52.220(c)(6).
16 | Appeals | September 14, 1971 | September 22, 1972, 37 FR 19812 | Submitted on June 30, 1972. See 40 CFR 52.220(c)(6).
Regulation V—Prohibitions
1 | Prohibitions under State Law | September 14, 1971 | September 22, 1972, 37 FR 19812 | Submitted on June 30, 1972. See 40 CFR 52.220(c)(6).
11, paragraph (B) | Specific Contaminants | September 14, 1971 | September 22, 1972, 37 FR 19812 | Paragraph (B) establishes emission limit for combustion contaminants. Submitted on June 30, 1972. See 40 CFR 52.220(c)(6).
12 | Prohibitions Regarding Orchard Heaters | September 14, 1971 | September 22, 1972, 37 FR 19812 | Submitted on June 30, 1972. See 40 CFR 52.220(c)(6).
13 | Process Weight Rate | September 14, 1971 | September 22, 1972, 37 FR 19812 | Submitted on June 30, 1972. See 40 CFR 52.220(c)(6).
14 | Process Weight Table | September 14, 1971 | September 22, 1972, 37 FR 19812 | Submitted on June 30, 1972. See 40 CFR 52.220(c)(6).
16 | Gasoline Storage | September 14, 1971 | September 22, 1972, 37 FR 19812 | Submitted on June 30, 1972. See 40 CFR 52.220(c)(6).
17 | Organic Liquid Loading | September 14, 1971 | September 22, 1972, 37 FR 19812 | Submitted on June 30, 1972. See 40 CFR 52.220(c)(6).
19 | Fuel Burning Equipment | September 14, 1971 | September 22, 1972, 37 FR 19812 | Submitted on June 30, 1972. See 40 CFR 52.220(c)(6).
Post-1975 Codification
Regulation I—General Provisions
101 | Title | July 18, 1972 | June 14, 1978, 43 FR 25682 | Submitted on April 21, 1976. See 40 CFR 52.220(c)(31)(xviii)(B).
102 | Definitions | October 15, 1979 | May 18, 1981, 46 FR 27115 | Submitted on October 15, 1979. See 40 CFR 52.220(c)(52)(xi)(A).
104 | Penalty | April 21, 1976 | June 14, 1978, 43 FR 25682 | Submitted on April 21, 1976. See 40 CFR 52.220(c)(31)(xviii)(B).
106 | Validity | July 18, 1972 | June 14, 1978, 43 FR 25682 | Submitted on April 21, 1976. See 40 CFR 52.220(c)(31)(xviii)(B).
107 | Effective Date | October 15, 1979 | May 18, 1981, 46 FR 27115 | Submitted on October 15, 1979. See 40 CFR 52.220(c)(52)(xi)(A).
Regulation II—Prohibitions
201 | District-Wide Coverage | April 21, 1976 | June 14, 1978, 43 FR 25682 | Submitted on April 21, 1976. See 40 CFR 52.220(c)(31)(xviii)(B).
202 | Visible Emissions | July 18, 1972 | June 14, 1978, 43 FR 25682 | Submitted on April 21, 1976. See 40 CFR 52.220(c)(31)(xviii)(B).
203 (excluding section G) | Exceptions | October 15, 1979 | May 18, 1981, 46 FR 27115 | Exceptions to Rule 202. Submitted on October 15, 1979. See 40 CFR 52.220(c)(52)(xi)(A).
204 | Wet Plumes | April 21, 1976 | June 14, 1978, 43 FR 25682 | Submitted on April 21, 1976. See 40 CFR 52.220(c)(31)(xviii)(B).
206 | Incinerator Burning | April 21, 1976 | June 14, 1978, 43 FR 25682 | Submitted on April 21, 1976. See 40 CFR 52.220(c)(31)(xviii)(B).
206 (paragraph (B) only) | Pathological Incineration | April 21, 1976 | May 18, 1981, 46 FR 27115 | Submitted on October 15, 1979. See 40 CFR 52.220(c)(52)(xi)(A).
207 | Particulate Matter | October 15, 1979 | May 18, 1981, 46 FR 27115 | Submitted on October 15, 1979. See 40 CFR 52.220(c)(52)(xi)(A).
207.1 | Asphalt Concrete Plants | April 21, 1976 | June 14, 1978, 43 FR 25682 | Submitted on April 21, 1976. See 40 CFR 52.220(c)(31)(xviii)(B).
210 (excluding (B)(1)) | Specific Contaminants | October 15, 1979 | May 18, 1981, 46 FR 27115 | Excludes emission limit for wood-fired boilers and incinerators. Submitted on October 15, 1979. See 40 CFR 52.220(c)(52)(xi)(A).
213 | Storage of Petroleum Products | October 15, 1979 | May 18, 1981, 46 FR 27115 | Submitted on October 15, 1979. See 40 CFR 52.220(c)(52)(xi)(A).
214 | Reduction of Animal Matter | April 21, 1976 | June 14, 1978, 43 FR 25682 | Submitted on April 21, 1976. See 40 CFR 52.220(c)(31)(xviii)(B).
215 | Abrasive Blasting | October 15, 1979 | May 18, 1981, 46 FR 27115 | Submitted on October 15, 1979. See 40 CFR 52.220(c)(52)(xi)(A).
216 | Compliance Tests | October 15, 1979 | May 18, 1981, 46 FR 27115 | Submitted on October 15, 1979. See 40 CFR 52.220(c)(52)(xi)(A).
Regulation III—Open Burning
301 | Prohibition from Burning | June 16, 1981 | April 17, 1987, 52 FR 12522 | Submitted on October 16, 1985. See 40 CFR 52.220(c)(164)(i)(A)(1).
302 | Exceptions to Rule 301 | June 16, 1981 | April 17, 1987, 52 FR 12522 | Submitted on October 16, 1985. See 40 CFR 52.220(c)(164)(i)(A)(1).
303 | Agricultural Burning | June 16, 1981 | April 17, 1987, 52 FR 12522 | Submitted on October 16, 1985. See 40 CFR 52.220(c)(164)(i)(A)(1).
304 | Range Improvement Burning | June 16, 1981 | April 17, 1987, 52 FR 12522 | Submitted on October 16, 1985. See 40 CFR 52.220(c)(164)(i)(A)(1).
305 | Forest Management Burning | June 16, 1981 | April 17, 1987, 52 FR 12522 | Submitted on October 16, 1985. See 40 CFR 52.220(c)(164)(i)(A)(1).
306 | Land Development Clearing | June 16, 1981 | April 17, 1987, 52 FR 12522 | Submitted on October 16, 1985. See 40 CFR 52.220(c)(164)(i)(A)(1).
307 | Ditch and Road Maintenance | June 16, 1981 | April 17, 1987, 52 FR 12522 | Submitted on October 16, 1985. See 40 CFR 52.220(c)(164)(i)(A)(1).
308 | Hazard Reduction | June 16, 1981 | April 17, 1987, 52 FR 12522 | Submitted on October 16, 1985. See 40 CFR 52.220(c)(164)(i)(A)(1).
309 | Fire Suppression and Training | June 16, 1981 | April 17, 1987, 52 FR 12522 | Submitted on October 16, 1985. See 40 CFR 52.220(c)(164)(i)(A)(1).
310 | Residential Maintenance | June 16, 1981 | April 17, 1987, 52 FR 12522 | Submitted on October 16, 1985. See 40 CFR 52.220(c)(164)(i)(A)(1).
311 | Recreational Activity | June 16, 1981 | April 17, 1987, 52 FR 12522 | Submitted on October 16, 1985. See 40 CFR 52.220(c)(164)(i)(A)(1).
312 | Required Permit | June 16, 1981 | April 17, 1987, 52 FR 12522 | Submitted on October 16, 1985. See 40 CFR 52.220(c)(164)(i)(A)(1).
313 | No Burn Day | June 16, 1981 | April 17, 1987, 52 FR 12522 | Submitted on October 16, 1985. See 40 CFR 52.220(c)(164)(i)(A)(1).
314 | Burning Permits | June 16, 1981 | April 17, 1987, 52 FR 12522 | Submitted on October 16, 1985. See 40 CFR 52.220(c)(164)(i)(A)(1).
315 | Minimum Drying Times | June 16, 1981 | April 17, 1987, 52 FR 12522 | Submitted on October 16, 1985. See 40 CFR 52.220(c)(164)(i)(A)(1).
316 | Burning Management | June 16, 1981 | April 17, 1987, 52 FR 12522 | Submitted on October 16, 1985. See 40 CFR 52.220(c)(164)(i)(A)(1).
317 | Mechanized Burners | June 16, 1981 | April 17, 1987, 52 FR 12522 | Submitted on October 16, 1985. See 40 CFR 52.220(c)(164)(i)(A)(1).
Regulation IV—Permit System Conditions
400 | NSR Requirements for New and Modified Major Sources in Nonattainment Areas | January 17, 2023 | February 6, 2024, 89 FR 8078 | Submitted electronically on March 3, 2023 as an attachment to a letter dated March 2, 2023. See 40 CFR 52.220(c)(609)(i)(A)(1).
401 | Responsibility | October 15, 1979 | May 18, 1981, 46 FR 27115 | Submitted on October 15, 1979. See 40 CFR 52.220(c)(52)(xi)(A).
403 | Responsibility of Permittee | April 21, 1976 | June 14, 1978, 43 FR 25682 | Submitted on April 21, 1976. See 40 CFR 52.220(c)(31)(xviii)(B).
404 | Upset Condition, Breakdown and Scheduled Maintenance | October 15, 1979 | May 18, 1981, 46 FR 27115 | Submitted on October 15, 1979. See 40 CFR 52.220(c)(52)(xi)(A).
405 | Separation of Emissions | April 21, 1976 | June 14, 1978, 43 FR 25682 | Submitted on April 21, 1976. See 40 CFR 52.220(c)(31)(xviii)(B).
406 | Combination of Emissions | April 21, 1976 | June 14, 1978, 43 FR 25682 | Submitted on April 21, 1976. See 40 CFR 52.220(c)(31)(xviii)(B).
428 | Emissions Statements | March 16, 2021 | July 29, 2022, 87 FR 45657 | Submitted on June 10, 2021 as an attachment to a letter dated June 10, 2021. See 40 CFR 52.220(c)(577)(i)(A)(1).
Regulation V—Permit System Requirements
501 | Permit Required | June 16, 1981 | April 17, 1987, 52 FR 12522 | Submitted on October 16, 1985. See 40 CFR 52.220(c)(164)(i)(A)(1).
502 | Exemptions to Rule 501 | January 8, 1980 | April 17, 1987, 52 FR 12522 | Submitted on October 16, 1985. See 40 CFR 52.220(c)(164)(i)(A)(1).
503 | Applications | January 8, 1980 | April 17, 1987, 52 FR 12522 | Submitted on October 16, 1985. See 40 CFR 52.220(c)(164)(i)(A)(1).
505 | Conditional Approval | January 8, 1980 | April 17, 1987, 52 FR 12522 | Submitted on October 16, 1985. See 40 CFR 52.220(c)(164)(i)(A)(1).
507 (paragraphs (C) and (D)) | Provisions of Sampling and Testing Facilities | October 13, 1977 | November 7, 1978, 43 FR 51775 | Only paragraphs (C) and (D) were submitted. Submitted on October 13, 1977. See 40 CFR 52.220(c)(41)(viii)(A).
507 | Responsibility | January 8, 1980 | April 17, 1987, 52 FR 12522 | Submitted on October 16, 1985. See 40 CFR 52.220(c)(164)(i)(A)(1).
508 | Posting of Permit to Operate | January 8, 1980 | April 17, 1987, 52 FR 12522 | Submitted on October 16, 1985. See 40 CFR 52.220(c)(164)(i)(A)(1).
510 | Separation of Emissions | January 8, 1980 | April 17, 1987, 52 FR 12522 | Submitted on October 16, 1985. See 40 CFR 52.220(c)(164)(i)(A)(1).
511 | Combination of Emissions | January 8, 1980 | April 17, 1987, 52 FR 12522 | Submitted on October 16, 1985. See 40 CFR 52.220(c)(164)(i)(A)(1).
512 | Circumvention | January 8, 1980 | April 17, 1987, 52 FR 12522 | Submitted on October 16, 1985. See 40 CFR 52.220(c)(164)(i)(A)(1).
513 | Source Recordkeeping | January 8, 1980 | April 17, 1987, 52 FR 12522 | Submitted on October 16, 1985. See 40 CFR 52.220(c)(164)(i)(A)(1).
514 | Public Records and Trade Secrets | January 8, 1980 | April 17, 1987, 52 FR 12522 | Submitted on October 16, 1985. See 40 CFR 52.220(c)(164)(i)(A)(1).
517 | Transfer | January 8, 1980 | April 17, 1987, 52 FR 12522 | Submitted on October 16, 1985. See 40 CFR 52.220(c)(164)(i)(A)(1).
518 | Revocation of a Permit to Operate | January 8, 1980 | April 17, 1987, 52 FR 12522 | Submitted on October 16, 1985. See 40 CFR 52.220(c)(164)(i)(A)(1).
521 | Annual Renewal | January 8, 1980 | April 17, 1987, 52 FR 12522 | Submitted on October 16, 1985. See 40 CFR 52.220(c)(164)(i)(A)(1).
Emergency Episode Plans
Amador County Air Pollution Control District, Resolution No. 19-06 | Ozone Emergency Episode Plan, dated August 26, 2019 | October 15, 2019 | March 30, 2021, 86 FR 16533 | Submitted on June 25, 2020 as an attachment to a letter dated June 16, 2020. See 40 CFR 52.220(c)(552)(i)(A)(1).

Table 5—EPA-Approved Antelope Valley Air Quality Management District Regulations; Los Angeles County Air Pollution Control District Regulations; Southern California Air Pollution Control District Regulations; South Coast Air Quality Management District Regulations
[Applicable in Antelope Valley]
District citation | Title/subject | State effective date | EPA approval date | Additional explanation
Original Codification of Rules and Regulations
53 | Sulfur Compounds—Concentration | June 30, 1972 | September 22, 1972, 37 FR 19812 | Submitted on June 30, 1972. See 40 CFR 52.220(c)(6).
58 | Disposal of Solid and Liquid Wastes | January 1, 1973 | September 22, 1972, 37 FR 19812 | Adopted by Los Angeles County APCD. Submitted by CARB on June 30, 1972. See 40 CFR 52.220(c)(6).
67 | Fuel Burning Equipment | January 7, 1971 | September 22, 1972, 37 FR 19812 | Adopted by Los Angeles County APCD. Submitted by CARB on June 30, 1972. See 40 CFR 52.220(c)(6). The rescission of Rule 67 was approved at 46 FR 27116 (May 18, 1981) as to sources granted permits after June 17, 1981, but the emission limits of Rule 67 were retained for existing sources granted permits prior to that date—see 40 CFR 52.280(c).
Recodification of Rules and Regulations
Regulation I—General Provisions
101 | Title | May 17, 2005 | September 2, 2008, 73 FR 51226 | Submitted by CARB on March 10, 2006. See 40 CFR 52.220(c)(344)(i)(A)(2).
102 | Definition of Terms | May 17, 2005 | September 2, 2008, 73 FR 51226 | Submitted by CARB on March 10, 2006. See 40 CFR 52.220(c)(344)(i)(A)(2).
103 | Definition of Geographical Areas | September 16, 1997 | December 31, 1998, 63 FR 72197 | Submitted by CARB on March 10, 1998. See 40 CFR 52.220(c)(254)(i)(E)(2).
104 | Reporting of Source Test Data and Analysis | January 9, 1976 | June 14, 1978, 43 FR 25684 | Adopted by the Southern California APCD. Remains applicable in Antelope Valley portion of California SIP. Submitted by CARB on April 21, 1976. See 40 CFR 52.220(c)(31)(vi)(B).
106 | Increments of Progress | May 17, 2005 | September 2, 2008, 73 FR 51226 | Submitted by CARB on March 10, 2006. See 40 CFR 52.220(c)(344)(i)(A)(3).
107 | Certification of Submissions and Emission Statements | May 15, 2012 | April 11, 2013, 78 FR 21545 | Submitted by CARB on September 21, 2012. See 40 CFR 52.220(c)(423)(i)(D)(1).
107 | Determination of Volatile Organic Compounds in Coating Material | January 8, 1982 | October 11, 1983, 48 FR 46046 | Adopted by the SCAQMD. Remains applicable in Antelope Valley portion of California SIP. Submitted by CARB on March 1, 1982. See 40 CFR 52.220(c)(121)(i)(B).
108 | Alternative Emission Control Plans | May 17, 2005 | September 2, 2008, 73 FR 51226 | Submitted by CARB on March 10, 2006. See 40 CFR 52.220(c)(344)(i)(A)(4).
109 | Recordkeeping for Volatile Organic Compound Emissions | April 20, 2010 | March 1, 2012, 77 FR 12495 | Submitted by CARB on July 20, 2010. See 40 CFR 52.220(c)(381)(i)(G)(2).
Regulation II—Permits
201 | Permit to Construct | August 19, 1997 | February 22, 2005, 70 FR 8518 | Submitted by CARB on March 10, 1998. See 40 CFR 52.220(c)(254)(i)(E)(3).
202(a) and (b) | Temporary Permit to Operate | January 9, 1976 | November 9, 1978, 43 FR 52237 | Adopted by the Southern California APCD. Remains applicable in Antelope Valley portion of California SIP. Submitted by CARB on April 21, 1976. See 40 CFR 52.220(c)(31)(vi)(C).
202(c) | Temporary Permit to Operate | May 7, 1976 | November 9, 1978, 43 FR 52237 | Adopted by the Southern California APCD. Remains applicable in Antelope Valley portion of California SIP. Submitted by CARB on August 2, 1976. See 40 CFR 52.220(c)(32)(iv)(C).
203 | Permit to Operate | August 19, 1997 | February 22, 2005, 70 FR 8518 | Submitted by CARB on March 10, 1998. See 40 CFR 52.220(c)(254)(i)(E)(3).
204 | Permit Conditions | August 19, 1997 | February 22, 2005, 70 FR 8518 | Submitted by CARB on March 10, 1998. See 40 CFR 52.220(c)(254)(i)(E)(3).
205 | Expiration of Permits to Construct | August 19, 1997 | February 22, 2005, 70 FR 8518 | Submitted by CARB on March 10, 1998. See 40 CFR 52.220(c)(254)(i)(E)(3).
207 | Altering or Falsifying of Permit | January 9, 1976 | November 9, 1978, 43 FR 52237 | Adopted by the Southern California APCD. Remains applicable in Antelope Valley portion of California SIP. Submitted by CARB on April 21, 1976. See 40 CFR 52.220(c)(31)(vi)(C).
208 | Permit for Open Burning | May 17, 2005 | September 2, 2008, 73 FR 51226 | Submitted by CARB on March 10, 2006. See 40 CFR 52.220(c)(344)(i)(A)(4).
209 | Transfer and Voiding of Permits | January 9, 1976 | November 9, 1978, 43 FR 52237 | Adopted by the Southern California APCD. Remains applicable in Antelope Valley portion of California SIP. Submitted by CARB on April 21, 1976. See 40 CFR 52.220(c)(31)(vi)(C).
210 | Applications | May 17, 2005 | September 2, 2008, 73 FR 51226 | Submitted by CARB on March 10, 2006. See 40 CFR 52.220(c)(344)(i)(A)(3).
212 | Standards for Approving Permits | May 17, 2005 | September 2, 2008, 73 FR 51226 | Submitted by CARB on March 10, 2006. See 40 CFR 52.220(c)(344)(i)(A)(3).
213 | Standards for Permits to Construct: Air Quality Impact | October 8, 1976 | November 9, 1978, 43 FR 52237 | Adopted by CARB through Resolution 76-39 (October 8, 1976) for the Southern California APCD. Remains applicable in Antelope Valley portion of California SIP. Submitted by CARB on November 19, 1976. See 40 CFR 52.220(c)(36)(i)(A).
213.1 | Standards for Permits to Operate: Air Quality Impact | October 8, 1976 | November 9, 1978, 43 FR 52237 | Adopted by CARB through Resolution 76-39 (October 8, 1976) for the Southern California APCD. Remains applicable in Antelope Valley portion of California SIP. Submitted by CARB on November 19, 1976. See 40 CFR 52.220(c)(36)(i)(A).
213.2 | Definitions for Rules 213 and 213.1 | October 8, 1976 | November 9, 1978, 43 FR 52237 | Adopted by CARB through Resolution 76-39 (October 8, 1976) for the Southern California APCD. Remains applicable in Antelope Valley portion of California SIP. Submitted by CARB on November 19, 1976. See 40 CFR 52.220(c)(36)(i)(A).
217 | Provision for Sampling and Testing Facilities | August 19, 1997 | February 22, 2005, 70 FR 8518 | Submitted by CARB on March 10, 1998. See 40 CFR 52.220(c)(254)(i)(E)(3).
218 | Continuous Emission Monitoring | July 17, 2012 | September 30, 2013, 78 FR 59840 | Submitted by CARB on February 6, 2013. See 40 CFR 52.220(c)(428)(i)(B)(1).
218.1 | Continuous Emission Monitoring Performance Specifications | July 17, 2012 | September 30, 2013, 78 FR 59840 | Submitted by CARB on February 6, 2013. See 40 CFR 52.220(c)(428)(i)(B)(2).
219 | Equipment Not Requiring a Permit | June 15, 2021 | July 3, 2023, 88 FR 42621 | Submitted by CARB on August 3, 2021. See 40 CFR 52.220(c)(602)(i)(A)(1).
220 | Exemption—Net Increase in Emissions | May 17, 2005 | September 2, 2008, 73 FR 51226 | Submitted by CARB on March 10, 2006. See 40 CFR 52.220(c)(344)(i)(A)(4).
221 | Plans | May 17, 2005 | September 2, 2008, 73 FR 51226 | Submitted by CARB on March 10, 2006. See 40 CFR 52.220(c)(344)(i)(A)(4).
226 | Limitations on Potential to Emit | May 17, 2005 | September 2, 2008, 73 FR 51226 | Submitted by CARB on March 10, 2006. See 40 CFR 52.220(c)(344)(i)(A)(4).
Regulation IV—Prohibitions
401 | Visible Emissions | March 2, 1984 | January 29, 1985, 50 FR 3906 | Adopted by the SCAQMD. Remains applicable in Antelope Valley portion of California SIP. Submitted by CARB on July 10, 1984. See 40 CFR 52.220(c)(155)(iv)(B).
403 | Fugitive Dust | April 20, 2010 | December 10, 2014, 79 FR 73203 | Submitted by CARB on July 20, 2010. See 40 CFR 52.220(c)(381)(i)(G)(3).
404 | Particulate Matter—Concentrations | October 5, 1979 | September 28, 1981, 46 FR 47451 | Adopted by the SCAQMD. Remains applicable in Antelope Valley portion of California SIP. Submitted by CARB on December 17, 1979. See 40 CFR 52.220(c)(58)(ii)(B).
405 | Solid Particulate Matter—Weight | May 7, 1976 | September 28, 1981, 46 FR 47451 | Adopted by the SCAQMD. Remains applicable in Antelope Valley portion of California SIP. Submitted by CARB on April 23, 1980. See 40 CFR 52.220(c)(69)(ii).
407 | Liquid and Gaseous Contaminants | April 2, 1982 | November 10, 1982, 47 FR 50864 | Adopted by the SCAQMD. Remains applicable in Antelope Valley portion of California SIP. Submitted by CARB on August 6, 1982. See 40 CFR 52.220(c)(124)(iv)(A).
408 | Circumvention | May 7, 1976 | June 14, 1978, 43 FR 25684 | Adopted by the Southern California APCD. Remains applicable in Antelope Valley portion of California SIP. Submitted by CARB on August 2, 1976. See 40 CFR 52.220(c)(32)(iv)(A).
409 | Combustion Contaminants | August 7, 1981 | July 6, 1982, 47 FR 29231 | Adopted by the SCAQMD. Remains applicable in Antelope Valley portion of California SIP. Submitted by CARB on October 23, 1981. See 40 CFR 52.220(c)(103)(xviii)(A).
431.1 | Sulfur Content of Gaseous Fuels | August 21, 2012 | September 30, 2013, 78 FR 59840 | Submitted by CARB on April 22, 2013. See 40 CFR 52.220(c)(429)(i)(B)(1).
431.2 | Sulfur Content of Liquid Fuels | October 20, 1978 | September 28, 1981, 46 FR 47451 | Adopted by the SCAQMD. Remains applicable in Antelope Valley portion of the SIP. Submitted by CARB on July 25, 1979. See 40 CFR 52.220(c)(65)(ii).
431.2(c)(5) | Sulfur Content of Liquid Fuels | February 2, 1979 | September 28, 1981, 46 FR 47451 | Adopted by the SCAQMD. Remains applicable in Antelope Valley portion of California SIP. Submitted by CARB on April 23, 1980. See 40 CFR 52.220(c)(69)(ii).
431.3 | Sulfur Content of Fossil Fuels | December 2, 1977 | September 28, 1981, 46 FR 47451 | Adopted by the SCAQMD. Remains applicable in Antelope Valley portion of the SIP. Submitted by CARB on July 25, 1979. See 40 CFR 52.220(c)(65)(ii).
432 | Gasoline Specifications | May 7, 1976 | June 14, 1978, 43 FR 25684 | Adopted by the Southern California APCD. Remains applicable in Antelope Valley portion of California SIP. Submitted by CARB on August 2, 1976. See 40 CFR 52.220(c)(32)(iv)(A).
442 | Usage of Solvents | November 15, 2005 | October 31, 2006, 71 FR 63696 | Submitted by CARB on March 10, 2006. See 40 CFR 52.220(c)(344)(i)(A)(1).
443 | Labeling of Solvents | January 1, 1977 | June 14, 1978, 43 FR 25684 | Adopted by the Southern California APCD. Remains applicable in Antelope Valley portion of California SIP. Submitted by CARB on August 2, 1976. See 40 CFR 52.220(c)(32)(iv)(A).
444 | Open Outdoor Fires | February 19, 2008 | June 11, 2009, 74 FR 27716 | Submitted by CARB on July 18, 2008. See 40 CFR 52.220(c)(359)(i)(D)(1).
461 | Gasoline Transfer and Dispensing | October 21, 2008 | January 31, 2011, 76 FR 5277 | Submitted by CARB on April 6, 2009. See 40 CFR 52.220(c)(366)(i)(C)(1).
462 | Organic Liquid Loading | September 19, 2017 | May 3, 2019, 84 FR 19681 | Submitted by CARB on November 13, 2017. See 40 CFR 52.220(c)(516)(i)(A)(1).
463 | Organic Liquid Storage | March 11, 1994 | October 23, 1996, 61 FR 54941 | Adopted by the SCAQMD. Remains applicable in Antelope Valley portion of California SIP. Submitted by CARB on May 24, 1994. See 40 CFR 52.220(c)(197)(i)(A)(2).
464 | Wastewater Separators | December 7, 1990 | February 24, 1997, 62 FR 8171 | Adopted by the SCAQMD. Remains applicable in Antelope Valley portion of California SIP. Submitted by CARB on May 13, 1991. See 40 CFR 52.220(c)(184)(i)(B)(6).
468 | Sulfur Recovery Units | October 8, 1976 | June 14, 1978, 43 FR 25684 | Adopted by the Southern California APCD. Remains applicable in Antelope Valley portion of California SIP. Submitted by CARB on February 10, 1977. See 40 CFR 52.220(c)(37)(i)(A).
469 | Sulfuric Acid Units | October 8, 1976 | June 14, 1978, 43 FR 25684 | Adopted by the Southern California APCD. Remains applicable in Antelope Valley portion of California SIP. Submitted by CARB on February 10, 1977. See 40 CFR 52.220(c)(37)(i)(A).
470 | Asphalt Air Blowing | May 7, 1976 | June 14, 1978, 43 FR 25684 | Adopted by the Southern California APCD. Remains applicable in Antelope Valley portion of California SIP. Submitted by CARB on August 2, 1976. See 40 CFR 52.220(c)(32)(iv)(A).
472 | Reduction in Animal Matter | May 7, 1976 | June 14, 1978, 43 FR 25684 | Adopted by the Southern California APCD. Remains applicable in Antelope Valley portion of California SIP. Submitted by CARB on August 2, 1976. See 40 CFR 52.220(c)(32)(iv)(A).
474 | Fuel Burning Equipment—Oxides of Nitrogen | December 4, 1981 | July 6, 1982, 47 FR 29231 | Adopted by the SCAQMD. Remains applicable in Antelope Valley portion of California SIP. Submitted by CARB on March 1, 1982. See 40 CFR 52.220(c)(121)(i)(A).
475 | Electric Power Generating Equipment | October 8, 1976 | June 14, 1978, 43 FR 25684 | Adopted by the Southern California APCD. Remains applicable in Antelope Valley portion of California SIP. Submitted by CARB on February 10, 1977. See 40 CFR 52.220(c)(37)(i)(A).
476 | Steam Generating Equipment | October 8, 1976 | June 14, 1978, 43 FR 25684 | Adopted by the Southern California APCD. Remains applicable in Antelope Valley portion of California SIP. Submitted by CARB on February 10, 1977. See 40 CFR 52.220(c)(37)(i)(A).
481 | Spray Coating Operations | May 5, 1978 | January 21, 1981, 46 FR 5965 | Adopted by the SCAQMD. Remains applicable in Antelope Valley portion of California SIP. Submitted by CARB on January 2, 1979. See 40 CFR 52.220(c)(47)(i)(B).
Regulation VII—Emergencies
701 | Air Pollution Emergency Contingency Actions | April 15, 2014 | October 5, 2015, 80 FR 60040 | Submitted by CARB on November 6, 2014. See 40 CFR 52.220(c)(457)(i)(F)(1).
Regulation XI—Source-Specific Standards
1102 | Petroleum Solvent Dry Cleaners | December 7, 1990 | March 24, 1992, 57 FR 10136 | Adopted by the SCAQMD. Remains applicable in Antelope Valley portion of California SIP. Submitted by CARB on May 13, 1991. See 40 CFR 52.220(c)(184)(i)(B)(1).
1102.1 | Perchloroethylene Dry Cleaning Systems | December 7, 1990 | March 24, 1992, 57 FR 10136 | Adopted by the SCAQMD. Remains applicable in Antelope Valley portion of California SIP. Submitted by CARB on May 13, 1991. See 40 CFR 52.220(c)(184)(i)(B)(1).
1104 | Wood Flat Stock Coating Operations | March 1, 1991 | June 23, 1994, 59 FR 32354 | Adopted by the SCAQMD. Remains applicable in Antelope Valley portion of California SIP. Submitted by CARB on October 25, 1991. See 40 CFR 52.220(c)(186)(i)(C)(1).
1106.1 | Pleasure Craft Coating Operations | May 1, 1992 | April 13, 1995, 60 FR 18750 | Adopted by the SCAQMD. Remains applicable in Antelope Valley portion of California SIP. Submitted by CARB on September 14, 1992. See 40 CFR 52.220(c)(189)(i)(A)(6).
1107 | Coating of Metal Parts and Products | May 12, 1995 | July 14, 1995, 60 FR 36227 | Adopted by the SCAQMD. Remains applicable in Antelope Valley portion of California SIP. Submitted by CARB on June 16, 1995. See 40 CFR 52.220(c)(222)(i)(A)(1).
1108 | Cutback Asphalt | February 1, 1985 | July 12, 1990, 55 FR 28624 | Adopted by the SCAQMD. Remains applicable in Antelope Valley portion of California SIP. Submitted by CARB on April 12, 1985. See 40 CFR 52.220(c)(160)(i)(E)(1).
1108.1 | Emulsified Asphalt | November 4, 1983 | January 24, 1985, 50 FR 3338 | Adopted by the SCAQMD. Remains applicable in Antelope Valley portion of California SIP. Submitted by CARB on March 14, 1984. See 40 CFR 52.220(c)(153)(vii)(A).
1110.2 | Emissions from Stationary, Non-Road and Portable Internal Combustion Engines | September 18, 2018 | September 10, 2021, 86 FR 50645 | Submitted by CARB on October 30, 2018. See 40 CFR 52.220(c)(521)(i)(A)(2).
1111 | NOX Emissions from Natural-Gas-Fired, Fan-Type Central Furnaces | July 8, 1983 | May 3, 1984, 49 FR 18830 | Adopted by the SCAQMD. Remains applicable in Antelope Valley portion of California SIP. Submitted by CARB on October 27, 1983. See 40 CFR 52.220(c)(148)(vi)(A).
1113 | Architectural Coatings | June 18, 2013 | December 8, 2015, 80 FR 76222 | Submitted by CARB on May 13, 2014. See 40 CFR 52.220(c)(441)(i)(E)(3).
1120 | Asphalt Pavement Heaters | August 4, 1978 | September 28, 1981, 46 FR 47451 | Adopted by the SCAQMD. Remains applicable in Antelope Valley portion of the SIP. Submitted by CARB on July 25, 1979. See 40 CFR 52.220(c)(65)(ii).
1121 | Control of Nitrogen Oxides from Residential Type Natural Gas-Fired Water Heaters | March 10, 1995 | November 1, 1996, 61 FR 56470 | Adopted by the SCAQMD. Remains applicable in Antelope Valley portion of the SIP. Submitted by CARB on May 24, 1995. See 40 CFR 52.220(c)(220)(i)(C)(1).
1122 | Solvent Degreasers | April 5, 1991 | November 4, 1996, 61 FR 56627 | Adopted by the SCAQMD. Remains applicable in Antelope Valley portion of the SIP. Submitted by CARB on May 13, 1993. See 40 CFR 52.220(c)(193)(i)(A)(3).
1124 | Aerospace Assembly and Component Manufacturing Operations | August 20, 2013 | October 5, 2015, 80 FR 60040 | Submitted by CARB on May 13, 2014. See 40 CFR 52.220(c)(441)(i)(E)(1).
1130 | Graphic Arts | November 19, 2013 | October 5, 2015, 80 FR 60040 | Submitted by CARB on May 13, 2014. See 40 CFR 52.220(c)(441)(i)(E)(2).
1134 | Stationary Gas Turbines | January 19, 2010 | January 18, 2012, 77 FR 2469 | Submitted by CARB on July 20, 2010. See 40 CFR 52.220(c)(381)(i)(G)(1).
1136 | Wood Products Coatings | September 8, 1995 | October 31, 1995, 60 FR 55312 | Adopted by the SCAQMD. Remains applicable in Antelope Valley portion of California SIP. Submitted by CARB on October 13, 1995. See 40 CFR 52.220(c)(225)(i)(A)(1).
1140 | Abrasive Blasting | February 1, 1980 | September 28, 1981, 46 FR 47451 | Adopted by the SCAQMD. Remains applicable in Antelope Valley portion of California SIP. Submitted by CARB on April 2, 1980. See 40 CFR 52.220(c)(67)(i)(B).
1141.1 | Coatings and Ink Manufacturing | November 4, 1983 | January 24, 1985, 50 FR 3338 | Remains applicable in Antelope Valley portion of California SIP. Submitted by CARB on March 14, 1984. See 40 CFR 52.220(c)(153)(vii)(A).
1145 | Plastic, Rubber, and Glass Coating Operations | January 10, 1992 | December 20, 1993, 58 FR 66286 | Adopted by the SCAQMD. Remains applicable in Antelope Valley portion of California SIP. Submitted by CARB on January 11, 1993. See 40 CFR 52.220(c)(191)(i)(A)(1).
1146 | Emissions of Oxides of Nitrogen from Industrial, Institutional, and Commercial Boilers, Steam Generators, and Process Heaters | May 13, 1994 | September 6, 1995, 60 FR 46220 | Adopted by the SCAQMD. Remains applicable in Antelope Valley portion of California SIP. Submitted by CARB on July 13, 1994. See 40 CFR 52.220(c)(198)(i)(H)(1).
1146.1 | Emissions of Oxides of Nitrogen from Small Industrial, Institutional, and Commercial Boilers, Steam Generators, and Process Heaters | May 13, 1994 | September 6, 1995, 60 FR 46220 | Adopted by the SCAQMD. Remains applicable in Antelope Valley portion of California SIP. Submitted by CARB on July 13, 1994. See 40 CFR 52.220(c)(198)(i)(H)(1).
1150.1 | Control of Gaseous Emissions from Active Landfills | April 5, 1985 | May 6, 1997, 62 FR 24574 | Adopted by the SCAQMD. Remains applicable in Antelope Valley portion of California SIP. Submitted by CARB on October 16, 1985. See 40 CFR 52.220(c)(164)(i)(E)(1).
1150.2 | Control of Gaseous Emissions from Inactive Landfills | October 18, 1985 | May 6, 1997, 62 FR 24574 | Adopted by the SCAQMD. Remains applicable in Antelope Valley portion of California SIP. Submitted by CARB on February 10, 1986. See 40 CFR 52.220(c)(168)(i)(H)(2).
1151 | Motor Vehicle and Mobile Equipment Coating Operations | June 19, 2012 | September 24, 2013, 78 FR 58459 | Submitted by CARB on September 21, 2012. See 40 CFR 52.220(c)(423)(i)(D)(2).
1151.1 | Motor Vehicle Assembly Coating Operations | June 20, 2017 | May 24, 2018, 83 FR 24033 | Submitted by CARB on August 9, 2017. See 40 CFR 52.220(c)(503)(i)(A)(1).
1153 | Commercial Bakery Ovens | January 13, 1995 | August 8, 1995, 60 FR 40285 | Adopted by the SCAQMD. Remains applicable in Antelope Valley portion of California SIP. Submitted by CARB on February 24, 1995. See 40 CFR 52.220(c)(215)(i)(A)(2).
1162 | Polyester Resin Operations | May 13, 1994 | August 25, 1994, 59 FR 43751 | Adopted by the SCAQMD. Remains applicable in Antelope Valley portion of California SIP. Submitted by CARB on May 24, 1994. See 40 CFR 52.220(c)(197)(i)(A)(1).
1164 | Semiconductor Manufacturing | January 13, 1995 | February 1, 1996, 61 FR 3579 | Adopted by the SCAQMD. Remains applicable in Antelope Valley portion of California SIP. Submitted by CARB on February 24, 1995. See 40 CFR 52.220(c)(215)(i)(A)(4).
1168 | Adhesive and Sealant Applications | September 20, 2011 | September 20, 2012, 77 FR 58313 | Submitted by CARB on February 23, 2012. See 40 CFR 52.220(c)(411)(i)(D)(1).
1171 | Solvent Cleaning Operations | August 21, 2018 | July 2, 2019, 84 FR 31684 | Submitted by CARB on October 30, 2018. See 40 CFR 52.220(c)(521)(i)(A)(1).
1173 | Fugitive Emissions of Volatile Organic Compounds | June 17, 2008 | August 28, 2009, 74 FR 44294 | Submitted by CARB on October 20, 2008. See 40 CFR 52.220(c)(361)(i)(B)(1).
1175 | Control of Emissions from the Manufacture of Polymeric Cellular (Foam) Products | May 13, 1994 | August 25, 1994, 59 FR 43751 | Adopted by the SCAQMD. Remains applicable in Antelope Valley portion of California SIP. Submitted by CARB on May 24, 1994. See 40 CFR 52.220(c)(197)(i)(A)(1).
1176 | Sumps and Wastewater Separators | May 13, 1994 | August 25, 1994, 59 FR 43751 | Adopted by the SCAQMD. Remains applicable in Antelope Valley portion of California SIP. Submitted by CARB on May 24, 1994. See 40 CFR 52.220(c)(197)(i)(A)(1).
1179 | Publicly Owned Treatment Works Operations | March 6, 1992 | October 4, 1994, 59 FR 50498 | Adopted by the SCAQMD. Remains applicable in Antelope Valley portion of California SIP. Submitted by CARB on September 14, 1992. See 40 CFR 52.220(c)(189)(i)(A)(5).
Regulation XIII—New Source Review
1300 | New Source Review General | July 20, 2021 | July 3, 2023, 88 FR 42621 | Submitted by CARB on August 3, 2021. See 40 CFR 52.220(c)(602)(i)(A)(2).
1301 | New Source Review Definitions | July 20, 2021 | July 3, 2023, 88 FR 42621 | Submitted by CARB on August 3, 2021. See 40 CFR 52.220(c)(602)(i)(A)(3).
1302 (except 1302(C)(5) and 1302(C)(7)(c)) | New Source Review Procedure | July 20, 2021 | July 3, 2023, 88 FR 42621 | Submitted by CARB on August 3, 2021. See 40 CFR 52.220(c)(602)(i)(A)(4).
1303 | New Source Review Requirements | July 20, 2021 | July 3, 2023, 88 FR 42621 | Submitted by CARB on August 3, 2021. See 40 CFR 52.220(c)(602)(i)(A)(5).
1304 | New Source Review Emissions Calculations | July 20, 2021 | July 3, 2023, 88 FR 42621 | Submitted by CARB on August 3, 2021. See 40 CFR 52.220(c)(602)(i)(A)(6).
1305 | New Source Review Emissions Offsets | July 20, 2021 | July 3, 2023, 88 FR 42621 | Submitted by CARB on August 3, 2021. See 40 CFR 52.220(c)(602)(i)(A)(7).
1306 | New Source Review for Electric Energy Generating Facilities | July 20, 2021 | July 3, 2023, 88 FR 42621 | Submitted by CARB on August 3, 2021. See 40 CFR 52.220(c)(602)(i)(A)(8).
1309 | Emission Reduction Credit Banking | July 20, 2021 | July 3, 2023, 88 FR 42621 | Submitted by CARB on August 3, 2021. See 40 CFR 52.220(c)(602)(i)(A)(9).
Regulation XXII—Transportation Outreach
2200 | Transportation Outreach Program | January 19, 1999 | July 7, 2017, 82 FR 31457 | Submitted by CARB on October 29, 1999. See 40 CFR 52.220(c)(270)(i)(E)(2).

Table 6—EPA-Approved Bay Area Air Quality Management District Regulations
District citation | Title/subject | State effective date | EPA approval date | Additional explanation
Original Codification of Rules and Regulations
Regulation 2, Division 14 | Nitrogen Oxides | April 19, 1972 | September 22, 1972, 37 FR 19812 | Submitted on June 30, 1972. See 40 CFR 52.220(c)(6). The portion of section 141112 related to modified heat transfer operations has been superseded by approval of Rule 9-3-202 (“Modified Heat Transfer Operation”) at 47 FR 29231 (July 6, 1982).
Regulation 4 | [no title] | June 1, 1971 | May 11, 1977, 42 FR 23802, corrected at 42 FR 42219 (August 22, 1977) | Submitted on July 25, 1973. Requires installation of crankcase devices on 1955 through 1962 model year motor vehicles within the district. See 40 CFR 52.220(c)(21)(iv)(B).
Regulation 6 | [no title] | December 17, 1975 | May 11, 1977, 42 FR 23802 | Provides authority to the APCO and designees to enforce the vehicle code. Submitted on February 10, 1976. See 40 CFR 52.220(c)(30)(i)(B).
Post-1979 Codification of Rules and Regulations
Regulation 1, excluding section 1-402 | General Provisions and Definitions | October 7, 1998 | June 28, 1999, 64 FR 34558 | Submitted on February 16, 1999. The submitted rule did not include sections 1-300 and 1-600. See 40 CFR 52.220(c)(262)(i)(A)(1). Section 1-402 (“Status of Violation Notices During Variance Proceedings”) was deleted without replacement at 69 FR 67062 (November 16, 2004). Also see 69 FR 3045 (January 22, 2004).
Regulation 1, sections 1-541 | General Provisions and Definitions | May 21, 1980 | July 6, 1982, 47 FR 29231 | Section 1-541 is titled “Emission excesses.” Submitted on July 10, 1980. See 40 CFR 52.220(c)(86)(i)(D).
Regulation 1, sections 1-600, 1-601, 1-603, 1-604 | General Provisions and Definitions | January 1, 1980 | July 6, 1982, 47 FR 29231 | Sections 1-600, 1-601, 1-603, and 1-604 are titled “Manual of Procedures,” Approval of Sampling Facilities,” “Visible Emissions,” and “Opacity Measurements,” respectively. Submitted on June 2, 1980. See 40 CFR 52.220(c)(79)(ii)(B).
Regulation 1, section 1-602 | General Provisions and Definitions | March 17, 1982 | November 10, 1982, 47 FR 50864 | Section 1-602 is titled “Area and Continuous Emission Monitoring Requirements.” Submitted on August 6, 1982. See 40 CFR 52.220(c)(124)(i)(A).
Regulation 2 (“Permits”), Rule 1 | General Requirements | December 6, 2017 | May 21, 2018, 83 FR 23372 | Submitted on December 14, 2017. See 40 CFR 52.220(c)(502)(i)(A)(1).
Regulation 2 (“Permits”), Rule 2 | New Source Review | December 6, 2017 | May 21, 2018, 83 FR 23372 | Submitted on December 14, 2017. See 40 CFR 52.220(c)(502)(i)(A)(1).
Regulation 2 (“Permits”), Rule 3 | Power Plants | January 1, 1980 | March 19, 1982, 47 FR 11866 | Submitted on January 14, 1980. See 40 CFR 52.220(c)(73)(i)(A).
Regulation 2 (“Permits”), Rule 4 | Emissions Banking | December 6, 2017 | May 21, 2018, 83 FR 23372 | Submitted on December 14, 2017. See 40 CFR 52.220(c)(502)(i)(A)(1).
Regulation 2 (“Permits”), Rule 6, Sections 232, 234, 310, 311, 403, 404, 420, 421, 422, 423 | Major Facility Review | February 1, 1995 | June 23, 1995, 60 FR 32603 | Submitted on March 31, 1995. See 40 CFR 52.220(c)(216)(i)(B)(1).
Regulation 2 (“Permits”), Rule 6, Sections 206, 207, 210, 212, 213, 214, 218, 222, 230, 231, 301, 401, 402, 602 | Major Facility Review | November 3, 1993 | June 23, 1995, 60 FR 32606 | Submitted on February 28, 1994. See 40 CFR 52.220(c)(217)(i)(A)(1).
Regulation 4, excluding Table 1, Episode Stage Criteria | Air Pollution Episode Plan | January 1, 1980 | May 28, 1980, 45 FR 35084 | Submitted on February 14, 1980. Includes sections 4-100, 4-101, 4-300, 4-301, 4-302, 4-303, 4-304, 4-305, 4-400, 4-401, 4-402, 4-403, and 4-404. Table 1 was superseded by approval of amended table 1 at 54 FR 31833 (August 6, 1990). See 40 CFR 52.220(c)(53)(i).
Regulation 4—Table 1, Episode Stage Criteria | Air Pollution Episode Plan | September 7, 1988 | August 6, 1990, 54 FR 31833 | Submitted on February 7, 1989. See 40 CFR 52.220(c)(177)(i)(B)(1).
Regulation 5 | Open Burning | November 2, 1994 | September 4, 1998, 63 FR 47179 | Submitted on March 10, 1998. See 40 CFR 52.220(c)(254)(i)(F)(1).
Regulation 6 | Particulate Matter and Visible Emissions | December 19, 1990 | September 4, 1998, 63 FR 47179 | Submitted on May 13, 1991. See 40 CFR 52.220(c)(184)(i)(C)(2).
Regulation 8 (“Organic Compounds”), Rule 1 | General Provisions | June 15, 1994 | March 22, 1995, 60 FR 15062 | Submitted on September 28, 1994. See 40 CFR 52.220(c)(199)(i)(A)(6).
Regulation 8 (“Organic Compounds”), Rule 2 | Miscellaneous Operations | June 15, 1994 | March 22, 1995, 60 FR 15062 | Submitted on September 28, 1994. See 40 CFR 52.220(c)(199)(i)(A)(6).
Regulation 8 (“Organic Compounds”), Rule 3 | Architectural Coatings | November 21, 2001 | January 2, 2004, 69 FR 34 | Submitted on June 18, 2002. See 40 CFR 52.220(c)(300)(i)(B)(1).
Regulation 8 (“Organic Compounds”), Rule 4 | General Solvent and Surface Coating Operations | October 16, 2002 | August 26, 2003, 68 FR 51187 | Submitted on April 1, 2003. See 40 CFR 52.220(c)(315)(i)(A)(1).
Regulation 8 (“Organic Compounds”), Rule 5 | Storage of Organic Liquids | November 27, 2002 | June 5, 2003, 68 FR 33635 | Submitted on January 21, 2003. See 40 CFR 52.220(c)(312)(i)(A)(1).
Regulation 8 (“Organic Compounds”), Rule 6 | Organic Liquid Bulk Terminals and Bulk Plants | February 2, 1994 | April 3, 1995, 60 FR 16799 | Submitted on May 24, 1994. See 40 CFR 52.220(c)(197)(i)(B)(1).
Regulation 8 (“Organic Compounds”), Rule 7 | Gasoline Dispensing Facilities | November 6, 2002 | March 24, 2003, 68 FR 14156 | Submitted on December 12, 2002. See 40 CFR 52.220(c)(308)(i)(A)(1).
Regulation 8 (“Organic Compounds”), Rule 8 | Wastewater (Oil-Water) Separators | June 15, 1994 | August 29, 1994, 59 FR 44328 | Submitted on July 13, 1994. See 40 CFR 52.220(c)(198)(i)(A)(1).
Regulation 8 (“Organic Compounds”), Rule 9 | Vacuum Processing Systems | July 20, 1983 | October 3, 1984, 49 FR 39057 | Submitted on October 27, 1983. See 40 CFR 52.220(c)(148)(i)(B).
Regulation 8 (“Organic Compounds”), Rule 10 | Process Vessel Depressurization | July 20, 1983 | October 3, 1984, 49 FR 39057 | Submitted on October 27, 1983. See 40 CFR 52.220(c)(148)(i)(B).
Regulation 8 (“Organic Compounds”), Rule 11 | Metal Container, Metal Closure, and Metal Coil Coating | November 19, 1997 | September 18, 2000, 65 FR 56251 | Submitted on March 28, 2000. See 40 CFR 52.220(c)(277)(i)(C)(1).
Regulation 8 (“Organic Compounds”), Rule 12 | Paper, Fabric, and Film Coating | December 20, 1995 | December 23, 1997, 62 FR 66998 | Submitted on July 23, 1996. See 40 CFR 52.220(c)(239)(i)(E)(2).
Regulation 8 (“Organic Compounds”), Rule 13 | Light and Medium Duty Motor Vehicle Assembly Plants | December 20, 1995 | December 23, 1997, 62 FR 66998 | Submitted on July 23, 1996. See 40 CFR 52.220(c)(239)(i)(E)(2).
Regulation 8 (“Organic Compounds”), Rule 14 | Surface Preparation and Coating of Large Appliances and Metal Furniture | October 16, 2002 | October 27, 2004, 69 FR 62588 | Submitted on April 1, 2003. See 40 CFR 52.220(c)(315)(i)(A)(3).
Regulation 8 (“Organic Compounds”), Rule 15 | Emulsified and Liquid Asphalts | June 1, 1994 | March 22, 1995, 60 FR 15062 | Submitted on September 28, 1994. See 40 CFR 52.220(c)(199)(i)(A)(6).
Regulation 8 (“Organic Compounds”), Rule 16 | Solvent Cleaning Operations | October 16, 2002 | August 26, 2003, 68 FR 51187 | Submitted on April 1, 2003. See 40 CFR 52.220(c)(315)(i)(A)(1).
Regulation 8 (“Organic Compounds”), Rule 17 | Petroleum Dry Cleaning Operations | September 5, 1990 | June 23, 1994, 59 FR 32354 | Submitted on April 5, 1991. See 40 CFR 52.220(c)(183)(i)(F)(2).
Regulation 8 (“Organic Compounds”), Rule 18 | Equipment Leaks | November 27, 2002 | June 5, 2003, 68 FR 33635 | Submitted on January 21, 2003. See 40 CFR 52.220(c)(312)(i)(A)(1).
Regulation 8 (“Organic Compounds”), Rule 19 | Surface Preparation and Coating of Miscellaneous Metal Parts and Products | October 16, 2002 | October 27, 2004, 69 FR 62588 | Submitted on April 1, 2003. See 40 CFR 52.220(c)(315)(i)(A)(3).
Regulation 8 (“Organic Compounds”), Rule 20 | Graphic Arts Printing and Coating Operations | March 3, 1999 | September 13, 2000, 65 FR 55201 | Submitted on March 28, 2000. See 40 CFR 52.220(c)(277)(i)(C)(2).
Regulation 8 (“Organic Compounds”), Rule 21 | Rubber Tire Manufacturing Operations | March 17, 1980 | July 6, 1982, 47 FR 29231 | Submitted on May 13, 1980. See 40 CFR 52.220(c)(83)(i)(C).
Regulation 8 (“Organic Compounds”), Rule 22 | Valves and Flanges at Chemical Plants | June 1, 1994 | February 16, 1995, 60 FR 8949 | Submitted on September 28, 1994. See 40 CFR 52.220(c)(199)(i)(A)(4).
Regulation 8 (“Organic Compounds”), Rule 23 | Coating of Flat Wood Paneling and Wood Flat Stock | December 20, 1995 | December 23, 1997, 62 FR 66998 | Submitted on July 23, 1996. See 40 CFR 52.220(c)(239)(i)(E)(2).
Regulation 8 (“Organic Compounds”), Rule 24 | Pharmaceutical and Cosmetic Manufacturing Operations | June 15, 1994 | March 22, 1995, 60 FR 15062 | Submitted on September 28, 1994. See 40 CFR 52.220(c)(199)(i)(A)(6).
Regulation 8 (“Organic Compounds”), Rule 26 | Magnet Wire Coating Operations | December 20, 1995 | August 19, 1999, 64 FR 45178 | Submitted on July 23, 1996. See 40 CFR 52.220(c)(239)(i)(E)(5).
Regulation 8 (“Organic Compounds”), Rule 27 | Perchloroethylene Dry Cleaning | March 5, 1980 | July 8, 1982, 47 FR 29668 | Submitted on May 13, 1980. See 40 CFR 52.220(c)(83)(i)(B).
Regulation 8 (“Organic Compounds”), Rule 28 | Episodic Releases from Pressure Relief Devices at Petroleum Refineries and Chemical Plants | March 18, 1998 | May 24, 2004, 69 FR 29451 | Submitted on March 28, 2000. See 40 CFR 52.220(c)(277)(i)(C)(8).
Regulation 8 (“Organic Compounds”), Rule 29 | Aerospace Assembly and Component Coating Operations | December 20, 1995 | December 23, 1997, 62 FR 66998 | Submitted on July 23, 1996. See 40 CFR 52.220(c)(239)(i)(E)(2).
Regulation 8 (“Organic Compounds”), Rule 30 | Semiconductor Manufacturing Operations | June 15, 1994 | March 22, 1995, 60 FR 15062 | Submitted on September 28, 1994. See 40 CFR 52.220(c)(199)(i)(A)(6).
Regulation 8 (“Organic Compounds”), Rule 31 | Surface Preparation and Coating of Plastic Parts and Products | October 16, 2002 | October 30, 2003, 68 FR 61753 | Submitted on April 1, 2003. See 40 CFR 52.220(c)(315)(i)(A)(2).
Regulation 8 (“Organic Compounds”), Rule 32 | Wood Products | December 20, 1995 | December 23, 1997, 62 FR 66998 | Submitted on July 23, 1996. See 40 CFR 52.220(c)(239)(i)(E)(2).
Regulation 8 (“Organic Compounds”), Rule 33 | Gasoline Bulk Terminals and Gasoline Delivery Vehicles | June 1, 1994 | April 3, 1995, 60 FR 16799 | Submitted on September 28, 1994. See 40 CFR 52.220(c)(199)(i)(A)(5).
Regulation 8 (“Organic Compounds”), Rule 34 | Solid Waste Disposal Sites | October 6, 1999 | July 1, 2002, 67 FR 44062 | Submitted on December 11, 2000. See 40 CFR 52.220(c)(285)(i)(C)(2).
Regulation 8 (“Organic Compounds”), Rule 35 | Ink, Coating, and Adhesive Manufacturing | June 15, 1994 | March 22, 1995, 60 FR 15062 | Submitted on September 28, 1994. See 40 CFR 52.220(c)(199)(i)(A)(6).
Regulation 8 (“Organic Compounds”), Rule 36 | Resin Manufacturing | June 16, 1984 | January 29, 1985, 50 FR 3906 | Submitted on October 19, 1984. See 40 CFR 52.220(c)(156)(i)(A).
Regulation 8 (“Organic Compounds”), Rule 37 | Natural Gas and Crude Oil Production Facilities | October 17, 1990 | August 11, 1992, 57 FR 35758 | Submitted on May 13, 1991. See 40 CFR 52.220(c)(184)(i)(C)(1).
Regulation 8 (“Organic Compounds”), Rule 38 | Flexible and Rigid Disc Manufacturing | December 20, 1995 | December 23, 1997, 62 FR 66998 | Submitted on July 23, 1996. See 40 CFR 52.220(c)(239)(i)(E)(2).
Regulation 8 (“Organic Compounds”), Rule 39 | Gasoline Bulk Plants and Gasoline Delivery Vehicles | June 1, 1994 | April 3, 1995, 60 FR 16799 | Submitted on September 28, 1994. See 40 CFR 52.220(c)(199)(i)(A)(5).
Regulation 8 (“Organic Compounds”), Rule 40 | Aeration of Contaminated Soil and Removal of Underground Storage Tanks | December 15, 1999 | April 19, 2001, 66 FR 20084 | Submitted on March 28, 2000. See 40 CFR 52.220(c)(277)(i)(C)(4).
Regulation 8 (“Organic Compounds”), Rule 41 | Vegetable Oil Manufacturing Operations | June 1, 1994 | March 22, 1995, 60 FR 15062 | Submitted on September 28, 1994. See 40 CFR 52.220(c)(199)(i)(A)(6).
Regulation 8 (“Organic Compounds”), Rule 42 | Large Commercial Bakeries | June 1, 1994 | March 7, 1995, 60 FR 12451 | Submitted on September 28, 1994. See 40 CFR 52.220(c)(199)(i)(A)(3).
Regulation 8 (“Organic Compounds”), Rule 43 | Surface Preparation and Coating of Marine Vessels | October 16, 2002 | October 30, 2003, 68 FR 61753 | Submitted on April 1, 2003. See 40 CFR 52.220(c)(315)(i)(A)(2).
Regulation 8 (“Organic Compounds”), Rule 44 | Marine Vessel Loading Terminals | January 4, 1989 | August 30, 1993, 58 FR 45442 | Submitted on March 26, 1990. See 40 CFR 52.220(c)(179)(i)(C)(1).
Regulation 8 (“Organic Compounds”), Rule 45 | Motor Vehicle and Mobile Equipment Coating Operations | November 6, 1996 | May 26, 2000, 65 FR 34101 | Submitted on August 1, 1997. See 40 CFR 52.220(c)(248)(i)(F)(1).
Regulation 8 (“Organic Compounds”), Rule 46 | Marine Tank Vessel to Marine Tank Vessel Loading | July 12, 1989 | August 30, 1993, 58 FR 45442 | Submitted on December 31, 1990. See 40 CFR 52.220(c)(182)(i)(B)(3).
Regulation 8 (“Organic Compounds”), Rule 47 | Air Stripping and Soil Vapor Extraction Operations | June 15, 1994 | April 26, 1995, 60 FR 20431 | Submitted on September 28, 1994. See 40 CFR 52.220(c)(199)(i)(A)(2).
Regulation 8 (“Organic Compounds”), Rule 49 | Aerosol Paint Products | August 21, 1991 | March 22, 1995, 60 FR 15062 | Submitted on September 14, 1992. See 40 CFR 52.220(c)(189)(i)(C)(1).
Regulation 8 (“Organic Compounds”), Rule 50 | Polyester Resin Operations | December 20, 1995 | December 23, 1997, 62 FR 66998 | Submitted on July 23, 1996. See 40 CFR 52.220(c)(239)(i)(E)(2).
Regulation 8 (“Organic Compounds”), Rule 51 | Adhesive and Sealant Products | May 2, 2001 | February 26, 2002, 67 FR 8721 | Submitted on May 31, 2001. See 40 CFR 52.220(c)(282)(i)(B)(1).
Regulation 8 (“Organic Compounds”), Rule 52 | Polystyrene, Polypropylene, and Polyethylene Foam Product Manufacturing Operations | July 7, 1999 | July 17, 2001, 66 FR 37154 | Submitted on March 28, 2000. See 40 CFR 52.220(c)(277)(i)(C)(5).
Regulation 9 (“Inorganic Gaseous Pollutants”), Rule 1 | Sulfur Dioxide | May 20, 1992 | June 8, 1999, 64 FR 30396 | Submitted on September 14, 1992. See 40 CFR 52.220(c)(189)(i)(C)(2).
Regulation 9 (“Inorganic Gaseous Pollutants”), Rule 3, Section 9-3-202 | Nitrogen Oxides from Heat Transfer Operations | December 17, 1980 | July 6, 1982, 47 FR 29231 | Section 9-3-202 is titled “Modified Heat Transfer Operation.” Submitted on January 28, 1981. See 40 CFR 52.220(c)(98)(ix)(A).
Regulation 9 (“Inorganic Gaseous Pollutants”), Rule 4 | Nitrogen Oxides from Fan Type Residential Central Furnaces | December 7, 1983 | January 7, 1986, 51 FR 600 | Submitted on April 19, 1984. See 40 CFR 52.220(c)(154)(vi)(B).
Regulation 9 (“Inorganic Gaseous Pollutants”), Rule 7 | Nitrogen Oxides and Carbon Monoxide from Industrial, Institutional, and Commercial Boilers, Steam Generators, and Process Heaters | September 15, 1993 | April 17, 1997, 62 FR 18710 | Submitted on July 23, 1996. See 40 CFR 52.220(c)(239)(i)(E)(1).
Regulation 9 (“Inorganic Gaseous Pollutants”), Rule 8 | Nitrogen Oxides and Carbon Monoxide Emissions from Stationary Internal Combustion Engines | January 20, 1993 | April 17, 1997, 62 FR 18710 | Submitted on July 23, 1996. See 40 CFR 52.220(c)(239)(i)(E)(1).
Regulation 9 (“Inorganic Gaseous Pollutants”), Rule 9 | Nitrogen Oxides from Stationary Gas Turbines | September 21, 1994 | April 17, 1997, 62 FR 18710 | Submitted on July 23, 1996. See 40 CFR 52.220(c)(239)(i)(E)(1).
Regulation 9 (“Inorganic Gaseous Pollutants”), Rule 10 | Nitrogen Oxides and Carbon Monoxide from Boilers, Steam Generators and Process Heaters in Petroleum Refineries | July 17, 2002 | April 2, 2008, 73 FR 17896 | Submitted on August 12, 2002. See 40 CFR 52.220(c)(353)(i)(A)(1).
Regulation 9 (“Inorganic Gaseous Pollutants”), Rule 11 | Nitrogen Oxides and Carbon Monoxide from Electric Power Generating Steam Boilers | May 17, 2000 | May 20, 2002, 67 FR 35434 | Submitted on December 11, 2000. See 40 CFR 52.220(c)(285)(i)(C)(1).
Regulation 9 (“Inorganic Gaseous Pollutants”), Rule 12 | Nitrogen Oxides from Glass Melting Furnaces | January 19, 1994 | April 17, 1997, 62 FR 18710 | Submitted on July 23, 1996. See 40 CFR 52.220(c)(239)(i)(E)(1).
Regulation 11 (“Hazardous Pollutants”), Rule 1, sections 11-1-100 to 11-1-102, and 11-1-300 to 11-1-303 | Lead | January 1, 1980 | September 2, 1981, 46 FR 43968 | Submitted on June 2, 1980. Approved sections relate to general provisions and standards. See 40 CFR 52.220(c)(79)(ii)(A).
Regulation 11 (“Hazardous Pollutants”), Rule 1, sections 11-1-500, 11-1-501, and 11-1-600 to 11-1-603 | Lead | January 1, 1980 | July 6, 1982, 47 FR 29231 | Submitted on June 2, 1980. Approved sections relate to monitoring and records and the manual of procedures. See 40 CFR 52.220(c)(79)(ii)(B).
Regulation 12 (“Miscellaneous Standards of Performance”), Rule 2 | Rendering Plants | January 1, 1980 | September 2, 1981, 46 FR 43968 | Submitted on June 2, 1980. See 40 CFR 52.220(c)(79)(ii)(A).
Regulation 12 (“Miscellaneous Standards of Performance”), Rule 3 | Asphalt Air Blowing | January 1, 1980 | September 2, 1981, 46 FR 43968 | Submitted on June 2, 1980. See 40 CFR 52.220(c)(79)(ii)(A).
Regulation 12 (“Miscellaneous Standards of Performance”), Rule 4 | Sandblasting | January 1, 1980 | September 2, 1981, 46 FR 43968 | Submitted on June 2, 1980. See 40 CFR 52.220(c)(79)(ii)(A).
General Conformity Regulation
Not applicable | Federal General Conformity Regulation | September 7, 1994 | April 23, 1999, 64 FR 19916 | Submitted on December 28, 1994. See 40 CFR 52.220(c)(205)(i)(B)(2).
Manual of Procedures
Manual of Procedures, Volume I, excluding sections 3 and 4 | Enforcement Procedures | January 20, 1982 | May 3, 1984, 49 FR 18822 | Submitted on May 20, 1982. See 40 CFR 52.220(c)(125)(viii)(A). Sections 3 and 4 were not included in the action—see the proposed rule at 48 FR 12108 (March 23, 1983).
Manual of Procedures, Volume I, section 5 | Enforcement Procedures | September 16, 1993 | August 6, 2001, 66 FR 40898 | Section 5 is titled “Boiler, Steam Generator, and Process Heater Tuning Procedure.” Submitted on July 23, 1996. See 40 CFR 52.220(c)(239)(i)(E)(7).
Manual of Procedures, Volume II | Engineering Permitting Procedures | January 1, 1980 | July 6, 1982, 47 FR 29231 | Submitted on July 30, 1981. See 40 CFR 52.220(c)(101)(i)(B).
Manual of Procedures, Volume III | Laboratory Policy and Procedures | January 1, 1980 | July 6, 1982, 47 FR 29231 | Submitted on July 30, 1981. See 40 CFR 52.220(c)(101)(i)(B).
Manual of Procedures, Volume IV | Source Test Policy and Procedures | January 1, 1980 | July 6, 1982, 47 FR 29231 | Submitted on July 30, 1981. See 40 CFR 52.220(c)(101)(i)(B).
Manual of Procedures, Volume V | Continuous Emission Monitoring and Procedures | January 20, 1982 | May 3, 1984, 49 FR 18822 | Submitted on May 20, 1982. See 40 CFR 52.220(c)(125)(viii)(A).
Manual of Procedures, Volume VI, excluding sections 3 and 4 | Air Monitoring Procedures | January 20, 1982 | May 3, 1984, 49 FR 18822 | Submitted on May 20, 1982. See 40 CFR 52.220(c)(125)(viii)(A). Sections 3 and 4 were not included in the action—see the proposed rule at 48 FR 12108 (March 23, 1983).

Table 7—EPA-Approved Butte County Air Quality Management District Regulations
District citation | Title/subject | State effective date | EPA approval date | Additional explanation
Pre-1985 Rule Codification
2-12f | Architectural Coatings | July 26, 1979 | May 3, 1982, 47 FR 18852 | Submitted on November 13, 1979. See 40 CFR 52.220(c)(91)(ii)(A).
2-13 | Reduced Sulfur Emission Standards | January 4, 1972 | May 31, 1972, 37 FR 10842 | Submitted on February 21, 1972. See 40 CFR 52.220(b).
Post-1985 Rule Codification
Regulation I—Definitions
101 | Definitions | December 14, 2017 | November 12, 2020, 85 FR 71846 | Submitted on May 23, 2018. See 40 CFR 52.220(c)(518)(i)(B)(1).
Regulation II—Prohibitions
202 | Visible Emissions | August 6, 1985 | July 12, 1990, 55 FR 28622 | Submitted on February 10, 1986. See 40 CFR 52.220(c)(168)(i)(A)(2).
203 | Particulate Matter Concentration | August 6, 1985 | July 12, 1990, 55 FR 28622 | Submitted on February 10, 1986. See 40 CFR 52.220(c)(168)(i)(A)(2).
204 | Exemptions to Rules 201, 202 and 203 | August 6, 1985 | July 12, 1990, 55 FR 28622 | Submitted on February 10, 1986. See 40 CFR 52.220(c)(168)(i)(A)(2).
205 | Process Weight Limitation | August 6, 1985 | July 12, 1990, 55 FR 28622 | Submitted on February 10, 1986. See 40 CFR 52.220(c)(168)(i)(A)(2).
207 | Wood Burning Devices | December 11, 2008 | April 11, 2013, 78 FR 21540 | Submitted on April 25, 2012. See 40 CFR 52.220(c)(419)(i)(C)(1).
210 | Gasoline Transfer into Stationary Storage Containers | August 6, 1985 | July 12, 1990, 55 FR 28622 | Submitted on February 10, 1986. See 40 CFR 52.220(c)(168)(i)(A)(2).
211 | Exemptions to Rule 210 | August 6, 1985 | July 12, 1990, 55 FR 28622 | Submitted on February 10, 1986. See 40 CFR 52.220(c)(168)(i)(A)(2).
212 | Gasoline Storage | August 6, 1985 | July 12, 1990, 55 FR 28622 | Submitted on February 10, 1986. See 40 CFR 52.220(c)(168)(i)(A)(2).
213 | Bulk Facilities, Petition for Annual Exemption | August 6, 1985 | July 12, 1990, 55 FR 28622 | Submitted on February 10, 1986. See 40 CFR 52.220(c)(168)(i)(A)(2).
214 | Vapor Collection and Disposal System at Loading Facilities | August 6, 1985 | July 12, 1990, 55 FR 28622 | Submitted on February 10, 1986. See 40 CFR 52.220(c)(168)(i)(A)(2).
215 | Storage of Gasoline Products at Bulk Facilities | August 6, 1985 | July 12, 1990, 55 FR 28622 | Submitted on February 10, 1986. See 40 CFR 52.220(c)(168)(i)(A)(2).
220 | Drycleaning | August 6, 1985 | July 12, 1990, 55 FR 28622 | Submitted on February 10, 1986. See 40 CFR 52.220(c)(168)(i)(A)(2).
225 | Solvent Storage | August 6, 1985 | July 12, 1990, 55 FR 28622 | Submitted on February 10, 1986. See 40 CFR 52.220(c)(168)(i)(A)(2).
231 | Sulfur Oxides Emission Standards | August 6, 1985 | July 12, 1990, 55 FR 28622 | Submitted on February 10, 1986. See 40 CFR 52.220(c)(168)(i)(A)(2).
241 | Cutback and Emulsified Asphalt | January 12, 1993 | February 5, 1996, 61 FR 4215 | Submitted on May 13, 1993. See 40 CFR 52.220(c)(193)(i)(C)(1).
250 | Circumvention | August 6, 1985 | February 3, 1987, 52 FR 3226 | Submitted on February 10, 1986. See 40 CFR 52.220(c)(168)(i)(A)(1).
260 | Separation of Emissions | August 6, 1985 | February 3, 1987, 52 FR 3226 | Submitted on February 10, 1986. See 40 CFR 52.220(c)(168)(i)(A)(1).
261 | Combination of Emissions | August 6, 1985 | February 3, 1987, 52 FR 3226 | Submitted on February 10, 1986. See 40 CFR 52.220(c)(168)(i)(A)(1).
270 | Orchard Heaters | August 6, 1985 | February 3, 1987, 52 FR 3226 | Submitted on February 10, 1986. See 40 CFR 52.220(c)(168)(i)(A)(1).
Regulation III—Open Burning
300 | Open Burning Requirements, Prohibitions, and Exemptions | August 27, 2015 | October 11, 2016, 81 FR 70018 | Submitted on March 11, 2016. See 40 CFR 52.220(c)(474)(i)(C)(1).
Regulation IV—Permits
400 | Permit Requirements | April 24, 2014 | December 22, 2016, 81 FR 93820 | Submitted on November 6, 2014. See 40 CFR 52.220(c)(457)(i)(C)(2).
401 | Permit Exemptions | April 24, 2014 | December 22, 2016, 81 FR 93820 | Submitted on November 6, 2014. See 40 CFR 52.220(c)(457)(i)(C)(3).
432 | Federal New Source Review (FNSR) | April 22, 2021 | February 5, 2024, 89 FR 7622 | Submitted on August 3, 2021 as an attachment to a letter of the same date. See 40 CFR 52.220(c)(591)(i)(B)(1).
433 | Rice Straw Emission Reduction Credits | April 24, 2014 | April 11, 2017, 82 FR 17380 | Submitted on November 6, 2014. See 40 CFR 52.220(c)(457)(i)(C)(5).
434 | Emissions Statements | June 25, 2020 | July 29, 2022, 87 FR 45657 | Submitted on July 27, 2020 as an attachment to a letter dated July 23, 2020. See 40 CFR 52.220(c)(573)(i)(A)(1).
Regulation VII—Violations
704 | Violations of Authority to Construct and Permit Conditions | August 6, 1985 | February 3, 1987, 52 FR 3226 | Submitted on February 10, 1986. See 40 CFR 52.220(c)(168)(i)(A)(1).
Regulation IX—Miscellaneous
901 | Severability Clause | August 6, 1985 | February 3, 1987, 52 FR 3226 | Submitted on February 10, 1986. See 40 CFR 52.220(c)(168)(i)(A)(1).
Regulation XI—Federal Clean Air Act Requirements
1103 | Conformity of General Federal Actions to State Implementation Plans | February 16, 1995 | April 23, 1999, 64 FR 19916 | Submitted on May 25, 1995. See 40 CFR 52.220(c)(221)(i)(B)(1).
1105 | Request for Designated Non-Major Source Status | February 15, 1996 | May 2, 2001, 66 FR 21875 | Submitted on May 10, 1996. See 40 CFR 52.220(c)(231)(i)(D)(1).
1107, except for the incorporation by reference of 40 CFR 52.21(b)(49)(v) into sections 3 and 4.1 | Prevention of Significant Deterioration (PSD) Permits | June 18, 2012 | November 12, 2015, 80 FR 69880 | Submitted on February 6, 2013. See 40 CFR 52.220(c)(428)(i)(F)(1). Approved along with two letters from BCAQMD dated November 13, 2014 and April 8, 2015 clarifying the rule. These letters are listed in the paragraph setting forth the EPA-approved non-regulatory and quasi-regulatory measures in the California SIP.

Table 8—EPA-Approved Calaveras County Air Pollution Control District Regulations
District rule No. | Title/subject | State effective date | EPA approval date | Additional explanation
Original Codification of Rules and Regulations
Regulation I—General Provisions
1.5 | Validity | April 5, 1971 | May 31, 1972, 37 FR 10842 | Submitted on February 21, 1972. See 40 CFR 52.220(b).
Regulation IV—Prohibitions
4.1 | Prohibitions under State Law | April 5, 1971 | May 31, 1972, 37 FR 10842 | Submitted on February 21, 1972. See 40 CFR 52.220(b).
April 1972 Codification of Rules and Regulations
Regulation I—General Provisions
101 | Title | April 24, 1972 | September 22, 1972, 37 FR 19812 | Submitted on June 30, 1972. See 40 CFR 52.220(c)(6).
Regulation II—Permits
201 | Permits Required | April 24, 1972 | September 22, 1972, 37 FR 19812 | Submitted on June 30, 1972. See 40 CFR 52.220(c)(6).
202 | Exemptions | April 24, 1972 | September 22, 1972, 37 FR 19812 | Submitted on June 30, 1972. See 40 CFR 52.220(c)(6).
203 | Transfer | April 24, 1972 | September 22, 1972, 37 FR 19812 | Submitted on June 30, 1972. See 40 CFR 52.220(c)(6).
205 | Cancellation of Construction Permit | April 24, 1972 | September 22, 1972, 37 FR 19812 | Submitted on June 30, 1972. See 40 CFR 52.220(c)(6).
208 | Standards for Granting Application | April 24, 1972 | September 22, 1972, 37 FR 19812 | Submitted on June 30, 1972. See 40 CFR 52.220(c)(6).
209 | Conditional Approval | April 24, 1972 | September 22, 1972, 37 FR 19812 | Submitted on June 30, 1972. See 40 CFR 52.220(c)(6).
Regulation III—Fees
301 | Permit Fee | April 24, 1972 | September 22, 1972, 37 FR 19812 | Submitted on June 30, 1972. See 40 CFR 52.220(c)(6).
Regulation IV—Prohibitions
407 | Specific Contaminants | April 24, 1972 | September 22, 1972, 37 FR 19812 | Submitted on June 30, 1972. See 40 CFR 52.220(c)(6).
408 | Fuel Burning Equipment | April 24, 1972 | September 22, 1972, 37 FR 19812 | Submitted on June 30, 1972. See 40 CFR 52.220(c)(6).
412 | Organic Liquid Loading | April 24, 1972 | September 22, 1972, 37 FR 19812 | Submitted on June 30, 1972. See 40 CFR 52.220(c)(6).
413 | Effluent Oil Water Separators | April 24, 1972 | September 22, 1972, 37 FR 19812 | Submitted on June 30, 1972. See 40 CFR 52.220(c)(6).
December 1974 Codification of Rules and Regulations
Regulation I—Definitions
102 | Definitions | December 20, 1976 | November 7, 1978, 43 FR 51772 | Submitted on October 13, 1977. See 40 CFR 52.220(c)(41)(ix)(A).
Regulation II—Prohibitions
201 | District-Wide Coverage | December 16, 1974 | May 11, 1977, 42 FR 23803; corrected on August 22, 1977, 42 FR 42219 | Submitted on July 22, 1975. See 40 CFR 52.220(c)(28)(iv)(A).
202 | Visible Emissions | December 16, 1974 | May 11, 1977, 42 FR 23803; corrected on August 22, 1977, 42 FR 42219 | Submitted on July 22, 1975. See 40 CFR 52.220(c)(28)(iv)(A).
203 (paragraphs (D) and (G)) | Exceptions | December 16, 1974 | May 11, 1977, 42 FR 23803; corrected on August 22, 1977, 42 FR 42219 | All of Rule 203, except for paragraphs (D) and (G), were superseded by approval of Rule 203 (excluding (D) and (G) on November 7, 1978 (43 FR 51772). Paragraph (J) was deleted without replacement on November 7, 1978 (43 FR 51772). Submitted on July 22, 1975. See 40 CFR 52.220(c)(28)(iv)(A).
203 (excluding paragraphs (D) and (G)) | Exceptions | December 20, 1976 | November 7, 1978, 43 FR 51772 | Submitted on October 13, 1977. See 40 CFR 52.220(c)(41)(ix)(A).
204 | Wet Plumes | December 16, 1974 | May 11, 1977, 42 FR 23803; corrected on August 22, 1977, 42 FR 42219 | Submitted on July 22, 1975. See 40 CFR 52.220(c)(28)(iv)(A).
206 | Incinerator Burning | December 16, 1974 | May 11, 1977, 42 FR 23803; corrected on August 22, 1977, 42 FR 42219 | Submitted on July 22, 1975. See 40 CFR 52.220(c)(28)(iv)(A).
206(B) | Pathological Incineration | December 20, 1976 | November 7, 1978, 43 FR 51772 | Submitted on October 13, 1977. See 40 CFR 52.220(c)(41)(ix)(A).
207 | Particulate Matter | December 20, 1976 | November 7, 1978, 43 FR 51772 | Submitted on October 13, 1977. See 40 CFR 52.220(c)(41)(ix)(A).
208 | Orchard and Citrus Heaters | December 20, 1976 | November 7, 1978, 43 FR 51772 | Submitted on October 13, 1977. See 40 CFR 52.220(c)(41)(ix)(A).
210 | Sulfur Emissions | December 16, 1974 | May 11, 1977, 42 FR 23803; corrected on August 22, 1977, 42 FR 42219 | Submitted on July 22, 1975. See 40 CFR 52.220(c)(28)(iv)(A).
211 | Process Weight Per Hour | December 16, 1974 | May 11, 1977, 42 FR 23803; corrected on August 22, 1977, 42 FR 42219 | Submitted on July 22, 1975. See 40 CFR 52.220(c)(28)(iv)(A).
212 | Process Weight Table | December 16, 1974 | May 11, 1977, 42 FR 23803; corrected on August 22, 1977, 42 FR 42219 | Submitted on July 22, 1975. See 40 CFR 52.220(c)(28)(iv)(A).
213 | Storage of Petroleum Products | December 16, 1974 | May 11, 1977, 42 FR 23803; corrected on August 22, 1977, 42 FR 42219 | Submitted on July 22, 1975. See 40 CFR 52.220(c)(28)(iv)(A).
214 | Reduction of Animal Matter | December 16, 1974 | May 11, 1977, 42 FR 23803; corrected on August 22, 1977, 42 FR 42219 | Submitted on July 22, 1975. See 40 CFR 52.220(c)(28)(iv)(A).
215 | Abrasive Blasting | December 20, 1976 | November 7, 1978, 43 FR 51772 | Submitted on October 13, 1977. See 40 CFR 52.220(c)(41)(ix)(A).
217 | Existing Sources | December 20, 1976 | November 7, 1978, 43 FR 51772 | Submitted on October 13, 1977. See 40 CFR 52.220(c)(41)(ix)(A).
Regulation III—Open Burning
301 | Open Outdoor Burning | December 20, 1976 | November 7, 1978, 43 FR 51772 | Submitted on October 13, 1977. See 40 CFR 52.220(c)(41)(ix)(A).
302 | Exceptions to Rule 301 | December 20, 1976 | November 7, 1978, 43 FR 51772 | Submitted on October 13, 1977. See 40 CFR 52.220(c)(41)(ix)(A).
303 | Burning Permits | December 20, 1976 | November 7, 1978, 43 FR 51772 | Submitted on October 13, 1977. See 40 CFR 52.220(c)(41)(ix)(A).
304 | Exception to Rule 303 | December 16, 1974 | May 11, 1977, 42 FR 23803; corrected on August 22, 1977, 42 FR 42219 | Submitted on July 22, 1975. See 40 CFR 52.220(c)(28)(iv)(A).
305 | Permit Validity | December 16, 1974 | May 11, 1977, 42 FR 23803; corrected on August 22, 1977, 42 FR 42219 | Submitted on July 22, 1975. See 40 CFR 52.220(c)(28)(iv)(A).
306 | No-Burn Days | December 16, 1974 | May 11, 1977, 42 FR 23803; corrected on August 22, 1977, 42 FR 42219 | Submitted on July 22, 1975. See 40 CFR 52.220(c)(28)(iv)(A).
307 | Exceptions to Rule 306 | December 16, 1974 | May 11, 1977, 42 FR 23803; corrected on August 22, 1977, 42 FR 42219 | Submitted on July 22, 1975. See 40 CFR 52.220(c)(28)(iv)(A).
308 | Burning Reports | December 16, 1974 | May 11, 1977, 42 FR 23803; corrected on August 22, 1977, 42 FR 42219 | Submitted on July 22, 1975. See 40 CFR 52.220(c)(28)(iv)(A).
309 | Amount Burned Daily | December 16, 1974 | May 11, 1977, 42 FR 23803; corrected on August 22, 1977, 42 FR 42219 | Submitted on July 22, 1975. See 40 CFR 52.220(c)(28)(iv)(A).
310 | Approved Ignition Devices | December 16, 1974 | May 11, 1977, 42 FR 23803; corrected on August 22, 1977, 42 FR 42219 | Submitted on July 22, 1975. See 40 CFR 52.220(c)(28)(iv)(A).
311 | Restricted Burning Days | December 16, 1974 | May 11, 1977, 42 FR 23803; corrected on August 22, 1977, 42 FR 42219 | Submitted on July 22, 1975. See 40 CFR 52.220(c)(28)(iv)(A).
312 | Wind Direction | December 16, 1974 | May 11, 1977, 42 FR 23803; corrected on August 22, 1977, 42 FR 42219 | Submitted on July 22, 1975. See 40 CFR 52.220(c)(28)(iv)(A).
313 | Minimum Drying Times | December 16, 1974 | May 11, 1977, 42 FR 23803; corrected on August 22, 1977, 42 FR 42219 | Submitted on July 22, 1975. See 40 CFR 52.220(c)(28)(iv)(A).
314 | Exceptions to Rule 313 | December 16, 1974 | May 11, 1977, 42 FR 23803; corrected on August 22, 1977, 42 FR 42219 | Submitted on July 22, 1975. See 40 CFR 52.220(c)(28)(iv)(A).
315 | Preparation of Materials to be Burned | December 16, 1974 | May 11, 1977, 42 FR 23803; corrected on August 22, 1977, 42 FR 42219 | Submitted on July 22, 1975. See 40 CFR 52.220(c)(28)(iv)(A).
316 | Burning of Agricultural Waste | December 16, 1974 | May 11, 1977, 42 FR 23803; corrected on August 22, 1977, 42 FR 42219 | Submitted on July 22, 1975. See 40 CFR 52.220(c)(28)(iv)(A).
317 | Range Management Burning | December 16, 1974 | May 11, 1977, 42 FR 23803; corrected on August 22, 1977, 42 FR 42219 | Submitted on July 22, 1975. See 40 CFR 52.220(c)(28)(iv)(A).
318 | Forest Management Burning | December 16, 1974 | May 11, 1977, 42 FR 23803; corrected on August 22, 1977, 42 FR 42219 | Submitted on July 22, 1975. See 40 CFR 52.220(c)(28)(iv)(A).
319 | Open Burning of Wood Waste on Property Where Grown | December 20, 1976 | November 7, 1978, 43 FR 51772 | Submitted on October 13, 1977. See 40 CFR 52.220(c)(41)(ix)(A).
320 | Right-of-Way Clearing and Levee, Ditch and Reservoir Maintenance Burning | December 20, 1976 | November 7, 1978, 43 FR 51772 | Submitted on October 13, 1977. See 40 CFR 52.220(c)(41)(ix)(A).
321 | Hazard Reduction Burning | December 20, 1976 | November 7, 1978, 43 FR 51772 | Submitted on October 13, 1977. See 40 CFR 52.220(c)(41)(ix)(A).
323 | Enforcement Responsibility | December 20, 1976 | November 7, 1978, 43 FR 51772 | Submitted on October 13, 1977. See 40 CFR 52.220(c)(41)(ix)(A).
Regulation IV—Permit System Conditions
401 | Responsibility | December 16, 1974 | May 11, 1977, 42 FR 23803; corrected on August 22, 1977, 42 FR 42219 | Submitted on July 22, 1975. See 40 CFR 52.220(c)(28)(iv)(A).
403 | Responsibility of Permittee | December 16, 1974 | May 11, 1977, 42 FR 23803; corrected on August 22, 1977, 42 FR 42219 | Submitted on July 22, 1975. See 40 CFR 52.220(c)(28)(iv)(A).
405 | Separation of Emissions | December 16, 1974 | May 11, 1977, 42 FR 23803; corrected on August 22, 1977, 42 FR 42219 | Submitted on July 22, 1975. See 40 CFR 52.220(c)(28)(iv)(A).
406 | Combination of Emissions | December 16, 1974 | May 11, 1977, 42 FR 23803; corrected on August 22, 1977, 42 FR 42219 | Submitted on July 22, 1975. See 40 CFR 52.220(c)(28)(iv)(A).
407 | Circumvention | December 20, 1976 | November 7, 1978, 43 FR 51772 | Submitted on October 13, 1977. See 40 CFR 52.220(c)(41)(ix)(A).
409 | Public Records | December 16, 1974 | May 11, 1977, 42 FR 23803; corrected on August 22, 1977, 42 FR 42219 | Submitted on July 22, 1975. See 40 CFR 52.220(c)(28)(iv)(A).
428 | NSR Requirements for New and Modified Major Sources in Nonattainment Areas | March 12, 2019 | November 19, 2020, 85 FR 73634 | Submitted on April 5, 2019. See 40 CFR 52.220(c)(544)(i)(A)(1).
Regulation V—Permit System Requirements
507 | Provision of Sampling and Testing Facilities | December 20, 1976 | November 7, 1978, 43 FR 51772 | Submitted on October 13, 1977. See 40 CFR 52.220(c)(41)(ix)(A).
513 | Source Recordkeeping and Emission Statement | June 26, 2018 | October 29, 2019, 84 FR 57822 | Submitted on November 21, 2018. See 40 CFR 52.220(c)(527)(i)(A)(1).
Emergency Episode Plans
Calaveras County Air Pollution Control District, Resolution No. 20200526r056, May 26, 2020 | Ozone Emergency Episode Plan, December 2019 | May 26, 2020 | March 30, 2021, 86 FR 16533 | Submitted on June 25, 2020 as an attachment to a letter dated June 16, 2020. See 40 CFR 52.220(c)(552)(i)(F)(1).

Table 9—EPA-Approved Colusa County Air Pollution Control District Regulations
District citation | Title/subject | State effective date | EPA approval date | Additional explanation
Regulation I—General Provisions
1.1 | Title | April 4, 1972 | September 22, 1972, 37 FR 19812 | Submitted on June 30, 1972. See 40 CFR 52.220(c)(6).
1.2 | Definitions | April 4, 1972 | September 22, 1972, 37 FR 19812 | Submitted on June 30, 1972. See 40 CFR 52.220(c)(6).
1.2(c) and (cg)—see explanatory note | Definitions | December 11, 1972 | August 22, 1977, 42 FR 42219 | Defines the terms, “agricultural burning” and “open burning in agricultural operations in the growing of crops or raising of fowls or animals.” Submitted on July 25, 1973, and later approved, in uncodified form, as part of “Amendment Number 3.” The current (2017) APCD codification of the definitions is shown in the first column. See 40 CFR 52.220(c)(21)(x)(A).
1.3 | Confidential Information | April 4, 1972 | September 22, 1972, 37 FR 19812 | Submitted on June 30, 1972. See 40 CFR 52.220(c)(6).
1.5 | Validity | April 4, 1972 | September 22, 1972, 37 FR 19812 | Submitted on June 30, 1972. See 40 CFR 52.220(c)(6).
1.7 | Effective Date | April 4, 1972 | September 22, 1972, 37 FR 19812 | Submitted on June 30, 1972. See 40 CFR 52.220(c)(6).
Regulation II—Registration and Permits
2.1 | Untitled, establishes registration requirement | April 4, 1972 | September 22, 1972, 37 FR 19812 | Submitted on June 30, 1972. See 40 CFR 52.220(c)(6).
2.2 | Untitled, establishes content requirements for registration | April 4, 1972 | September 22, 1972, 37 FR 19812 | Submitted on June 30, 1972. See 40 CFR 52.220(c)(6).
2.3 | Untitled, relates to service of notices | April 4, 1972 | September 22, 1972, 37 FR 19812 | Submitted on June 30, 1972. See 40 CFR 52.220(c)(6).
2.4 | Permits General Requirements | April 4, 1972 | September 22, 1972, 37 FR 19812 | Submitted on June 30, 1972. See 40 CFR 52.220(c)(6).
2.5 | Permits Required | April 4, 1972 | September 22, 1972, 37 FR 19812 | Submitted on June 30, 1972. See 40 CFR 52.220(c)(6).
2.6 | Exemptions | April 4, 1972 | September 22, 1972, 37 FR 19812 | Submitted on June 30, 1972. See 40 CFR 52.220(c)(6).
2.7A | Standards for Granting Applications | February 13, 1980 | June 18, 1982, 57 FR 26379 | Submitted on February 25, 1980. See 40 CFR 52.220(c)(54)(x)(A).
2.7B | Conditional Approval | February 13, 1980 | June 18, 1982, 57 FR 26379 | Submitted on February 25, 1980. See 40 CFR 52.220(c)(54)(x)(A).
Regulation IV—Prohibitions
4.1 | Prohibitions under State Law | April 4, 1972 | September 22, 1972, 37 FR 19812 | Submitted on June 30, 1972. See 40 CFR 52.220(c)(6).
4.3 | Ringelmann Chart | April 4, 1972 | September 22, 1972, 37 FR 19812 | Submitted on June 30, 1972. See 40 CFR 52.220(c)(6).
4.4 (excluding (g)) | Exceptions | April 4, 1972 | September 22, 1972, 37 FR 19812 | Submitted on June 30, 1972. See 40 CFR 52.220(c)(6). Rule 4.4(g), which relates to equipment breakdown, was disapproved at 43 FR 33915 (August 2, 1978)—see 40 CFR 52.271(a)(4)(i).
4.7 | Wet Plumes | April 4, 1972 | September 22, 1972, 37 FR 19812 | Submitted on June 30, 1972. See 40 CFR 52.220(c)(6).
4.8 | Open Burning | April 4, 1972 | September 22, 1972, 37 FR 19812 | Submitted on June 30, 1972. See 40 CFR 52.220(c)(6).
4.8A | Other Open Burning | April 4, 1972 | September 22, 1972, 37 FR 19812 | Submitted on June 30, 1972. See 40 CFR 52.220(c)(6).
4.9 | Incinerator Burning | April 4, 1972 | September 22, 1972, 37 FR 19812 | Submitted on June 30, 1972. See 40 CFR 52.220(c)(6).
4.10 | Particulate Matter | April 4, 1972 | September 22, 1972, 37 FR 19812 | Submitted on June 30, 1972. See 40 CFR 52.220(c)(6).
4.11 | Dust and Condensed Fumes | April 4, 1972 | September 22, 1972, 37 FR 19812 | Submitted on June 30, 1972. See 40 CFR 52.220(c)(6).
4.12 | Specific Contaminants | April 4, 1972 | September 22, 1972, 37 FR 19812 | Submitted on June 30, 1972. See 40 CFR 52.220(c)(6).
4.13 | Prohibitions Regarding Orchard or Citrus Fruit Heaters | April 4, 1972 | September 22, 1972, 37 FR 19812 | Submitted on June 30, 1972. See 40 CFR 52.220(c)(6).
4.14 | Additional Prohibitions | April 4, 1972 | September 22, 1972, 37 FR 19812 | Submitted on June 30, 1972. See 40 CFR 52.220(c)(6).
4.15 | Reduction of Animal Matter | April 4, 1972 | September 22, 1972, 37 FR 19812 | Submitted on June 30, 1972. See 40 CFR 52.220(c)(6).
4.16 | Gasoline Storage | April 4, 1972 | September 22, 1972, 37 FR 19812 | Submitted on June 30, 1972. See 40 CFR 52.220(c)(6).
4.17 | Circumvention | April 4, 1972 | September 22, 1972, 37 FR 19812 | Submitted on June 30, 1972. See 40 CFR 52.220(c)(6).
4.18 | Separation of Emissions | April 4, 1972 | September 22, 1972, 37 FR 19812 | Submitted on June 30, 1972. See 40 CFR 52.220(c)(6).
4.19 | Combination of Emissions | April 4, 1972 | September 22, 1972, 37 FR 19812 | Submitted on June 30, 1972. See 40 CFR 52.220(c)(6).
4.20 | Emission Control for Used Motor Vehicles | April 4, 1972 | September 22, 1972, 37 FR 19812 | Submitted on June 30, 1972. See 40 CFR 52.220(c)(6).
Regulation VI—Agricultural Burning
6.1 | Agricultural Burning Permits | April 4, 1972 | September 22, 1972, 37 FR 19812 | Submitted on June 30, 1972. See 40 CFR 52.220(c)(6).
6.2 (excluding (g)) | Permit Form | April 4, 1972 | September 22, 1972, 37 FR 19812 | Submitted on June 30, 1972. See 40 CFR 52.220(c)(6). Paragraph (g) was superseded by approval of 6.2(g) at 42 FR 42219 (August 22, 1977).
6.2(g) | Permit Form | October 22, 1974 | August 22, 1977, 42 FR 42219 | Submitted on January 10, 1975. See 40 CFR 52.220(c)(26)(vi)(A).
6.2—see explanatory note | Advance Burning Notices | December 11, 1972 | August 22, 1977, 42 FR 42219 | Submitted on July 25, 1973, and later approved, in uncodified form as part of the “Amendment 3.” The analogous current local APCD rule is Rule 6.2. The local APCD has amended the rule since it was approved as part of the SIP, but the version of the rule listed here remains the applicable SIP version of the rule. See 40 CFR 52.220(c)(21)(x)(A).
6.3 | No Burn Days | April 4, 1972 | September 22, 1972, 37 FR 19812 | Submitted on June 30, 1972. See 40 CFR 52.220(c)(6).
6.4 (excluding (d)(1-3)) | Preparation of Agricultural Waste | April 4, 1972 | September 22, 1972, 37 FR 19812 | Submitted on June 30, 1972. See 40 CFR 52.220(c)(6). Paragraph (d)(1-3) was superseded by approval of 6.4(d)(1-2) and the “Rice Stubble and Straw Burning” rule at 42 FR 42219 (August 22, 1977).
6.4(d) (1-2) | Preparation of Agricultural Waste | October 22, 1974 | August 22, 1977, 42 FR 42219 | Submitted on January 10, 1975. See 40 CFR 52.220(c)(26)(vi)(A).
6.5 | Restricted Burning Days | December 11, 1972 | August 22, 1977, 42 FR 42219 | Submitted on July 25, 1973. See 40 CFR 52.220(c)(21)(x)(A). Included as part of “Amendment Number 3.”
6.6 | Fire Permit Agencies | April 4, 1972 | September 22, 1972, 37 FR 19812 | Submitted on June 30, 1972. See 40 CFR 52.220(c)(6).
6.6A (paragraphs I and II.1) | Notification to Fire Department of “Burn Day” or “No Burn Day” at 8:00 a.m. Each Morning | August 19, 1975 | August 22, 1977, 42 FR 42219 | Submitted on February 10, 1976. See 40 CFR 52.220(c)(30)(iv)(A).
6.7 | Exceptions | April 4, 1972 | September 22, 1972, 37 FR 19812 | Submitted on June 30, 1972. See 40 CFR 52.220(c)(6).
6.7—see explanatory note | Rice Stubble and Straw Burning | August 19, 1975 | August 22, 1977, 42 FR 42219 | Submitted on February 10, 1976, and later approved, in uncodified form, as “Rice Stubble Burning Regulations.” Only paragraphs (a) through (f) were approved (i.e., paragraph (g) was not approved). The current (2017) codification of the rule is Rule 6.7. The local APCD has amended the rule since it was approved as part of the SIP, but the version of the rule listed here remains the applicable SIP version of the rule. See 40 CFR 52.220(c)(30)(iv)(A).
6.8 | Tires | April 4, 1972 | September 22, 1972, 37 FR 19812 | Submitted on June 30, 1972. See 40 CFR 52.220(c)(6).
6.9 | Fire Prevention | April 4, 1972 | September 22, 1972, 37 FR 19812 | Submitted on June 30, 1972. See 40 CFR 52.220(c)(6).
6.10 | Burning on No-Burn Days | April 4, 1972 | September 22, 1972, 37 FR 19812 | Submitted on June 30, 1972. See 40 CFR 52.220(c)(6).
6.17—see explanatory note | Range Improvement Burning | December 11, 1972 | August 22, 1977, 42 FR 42219 | Submitted on July 25, 1973, and later approved, in uncodified form, as part of “Amendment Number 3.” The rule is currently (2017) codified by the local APCD as Rule 6.17. The local APCD has amended the rule since it was approved as part of the SIP, but the version of the rule listed here remains the applicable SIP version of the rule. See 40 CFR 52.220(c)(21)(x)(A).
6.18—see explanatory note | Forest Management Burning | December 11, 1972 | August 22, 1977, 42 FR 42219 | Submitted on July 25, 1973, and later approved, in uncodified form, as part of “Amendment Number 3.” The rule is currently (2017) codified by the local APCD as Rule 6.18. The local APCD has amended the rule since it was approved as part of the SIP, but the version of the rule listed here remains the applicable SIP version of the rule. See 40 CFR 52.220(c)(21)(x)(A).

Table 10—EPA-Approved Eastern Kern Air Pollution Control District Regulations; Kern County Air Pollution Control District Regulations
District citation | Title/subject | State effective date | EPA approval date | Additional explanation
Original Codification of Rules and Regulations
4.1 | Prohibitions Under State Law | January 25, 1971 | May 31, 1972, 37 FR 10842 | Submitted on February 21, 1972. See 40 CFR 52.220(b).
Post-April 1972 Codification of Rules and Regulations
Regulation I—General Provisions
101 | Title | May 2, 1996 | June 3, 1999, 64 FR 29790 | Submitted on July 23, 1996. See 40 CFR 52.220(c)(239)(i)(C)(1).
102 | Definitions | January 13, 2011 | May 4, 2012, 77 FR 26448 | Submitted on June 21, 2011. See 40 CFR 52.220(c)(391)(i)(A)(1).
103 | Confidential Information | August 31, 1976 | March 22, 1978, 43 FR 11816 | Submitted on November 10, 1976. See 40 CFR 52.220(c)(35)(xiii)(A).
103.1 | Inspection of Public Records | May 2, 1996 | May 17, 2016, 81 FR 30484 | Submitted on July 23, 1996. See 40 CFR 52.220(c)(239)(i)(C)(6).
106 | Land Use | April 18, 1972 | September 22, 1972, 37 FR 19812 | Submitted on June 30, 1972. See 40 CFR 52.220(c)(6).
108 | Stack Monitoring | July 24, 2003 | April 22, 2004, 69 FR 21713; corrected on August 29, 2019, 84 FR 45422 | Submitted on November 4, 2003. See 40 CFR 52.220(c)(321)(i)(A)(1).
108.1 | Source Sampling | May 2, 1996 | August 10, 2001, 66 FR 42126 | Submitted on July 23, 1996. See 40 CFR 52.220(c)(239)(i)(C)(2).
108.2 | Emission Statement Requirements | August 4, 2022 | March 18, 2025, 90 FR 12459 | Submitted on December 7, 2022, as an attachment to a letter dated November 30, 2022. See 40 CFR 52.220(c)(625)(i)(A)(1).
112 | Circumvention | May 2, 1996 | June 3, 1999, 64 FR 29790 | Submitted on July 23, 1996. See 40 CFR 52.220(c)(239)(i)(C)(1).
113 | Separation and Combination | May 2, 1996 | June 3, 1999, 64 FR 29790 | Submitted on July 23, 1996. See 40 CFR 52.220(c)(239)(i)(C)(1).
114 | Severability | May 2, 1996 | June 3, 1999, 64 FR 29790 | Submitted on July 23, 1996. See 40 CFR 52.220(c)(239)(i)(C)(1).
115 | Applicability of Emission Limits | May 2, 1996 | June 3, 1999, 64 FR 29790 | Submitted on July 23, 1996. See 40 CFR 52.220(c)(239)(i)(C)(1).
Regulation II—Permits
201 | Permits Required | May 2, 1996 | November 8, 2007, 72 FR 63107 | Submitted on July 23, 1996. See 40 CFR 52.220(c)(239)(i)(C)(3).
202 | Permit Exemptions | January 13, 2011 | July 14, 2015, 80 FR 40909 | Submitted on June 21, 2011. See 40 CFR 52.220(c)(391)(i)(A)(2).
202.1 | Experimental Research Operations | May 2, 1996 | November 8, 2007, 72 FR 63107 | Submitted on July 23, 1996. See 40 CFR 52.220(c)(239)(i)(C)(4).
203 | Transfer | April 18, 1972 | September 22, 1972, 37 FR 19812 | Submitted on June 30, 1972. See 40 CFR 52.220(c)(6).
205 | Permit Renewal | May 2, 1996 | December 5, 2008, 73 FR 74029 | Adopted through District Resolution dated May 2, 1996. Submitted on July 23, 1996. See 40 CFR 52.220(c)(239)(i)(C)(5).
208 | Standards for Granting Applications | September 17, 1998 | April 22, 2004, 69 FR 21713 | Submitted on October 27, 1998. See 40 CFR 52.220(c)(260)(i)(C)(1).
209 | Conditional Approval | April 18, 1972 | September 22, 1972, 37 FR 19812 | Submitted on June 30, 1972. See 40 CFR 52.220(c)(6).
209.1 | Permit Conditions | May 2, 1996 | November 8, 2007, 72 FR 63107 | Submitted on July 23, 1996. See 40 CFR 52.220(c)(239)(i)(C)(4).
210.1 (excluding paragraph (3)(E)) | Standard for Authority to Construct | March 6, 1980 | August 21, 1981, 46 FR 42450 | Submitted on April 15, 1980. See 40 CFR 52.233(a)(4)(i) and 40 CFR 52.220(c)(76)(i)(A).
210.1A | Major New and Modified Stationary Source Review (MNSR) | August 4, 2022 | December 5, 2022, 87 FR 74316 | Submitted on October 5, 2022. See 40 CFR 52.220(c)(590)(i)(A)(1).
210.2 | Standards for Permits to Operate | May 2, 1996 | November 8, 2007, 72 FR 63107 | Submitted on July 23, 1996. See 40 CFR 52.220(c)(239)(i)(C)(4).
210.4 | Prevention of Significant Deterioration | February 8, 2013 | December 10, 2012, 77 FR 73316 | Adopted on January 12, 2012. Submitted on April 25, 2012. Effective upon effective date of EPA approval. Final approval of Rule 210.4 is based, in part, on the clarifications contained in: (1) Letter dated July 19, 2012 from David L. Jones, EKAPCD, to Gerardo Rios, United States Environmental Protection Agency Region 9, regarding Clarifications of District Rule 210.4 and 40 CFR 51.166; and (2) Letter dated August 21, 2012 from David L. Jones, EKAPCD, to Gerardo Rios, United States Environmental Protection Agency Region 9, regarding Clarifications of District Rule 210.4 and 40 CFR 52.21(k)(2). These letters will be listed in 40 CFR 52.220(e). See 40 CFR 52.220(c)(419)(i)(A))(1).
210.5 | Visibility Protection | May 2, 1996 | November 8, 2007, 72 FR 63107 | Submitted on July 23, 1996. See 40 CFR 52.220(c)(239)(i)(C)(4).
Regulation IV—Prohibitions
401 | Visible Emissions | November 29, 1993 | July 17, 2001, 66 FR 37151 | Submitted on March 29, 1994. See 40 CFR 52.220(c)(196)(i)(F)(4).
402 | Fugitive Dust | November 3, 2004 | August 13, 2009, 74 FR 40750 | Submitted on January 13, 2005. See 40 CFR 52.220(c)(335)(i)(E)(1).
404.1 | Particulate Matter Concentration | January 24, 2007 | January 17, 2008, 73 FR 3192 | Adopted by the Kern County air district through Resolution No. 2007-001-01, Reference No. Item 5, Adoption of Amendments to Rules and Regulations of the Kern County Air Pollution Control District; to Wit: Rule 404.1. Submitted on August 24, 2007. See 40 CFR 52.220(c)(351)(i)(D)(1) and 40 CFR 52.220(c)(351)(i)(D)(1)(i).
405 | Particulate Matter—Emission Rate | July 18, 1983 | May 3, 1984, 49 FR 18824 | Submitted on August 30, 1983. See 40 CFR 52.220(c)(140)(ii)(A).
405 | Particulate Matter—Emission Rate | March 19, 1974 | August 22, 1977, 42 FR 42219 | Submitted on July 19, 1974. See 40 CFR 52.220(c)(24)(vii)(A). Partially superseded by approval of an amended version of Rule 405 on May 3, 1984.
406.2 | Process Weight—Portland Cement Kilns | April 18, 1972 | September 22, 1972, 37 FR 19812 | Submitted on June 30, 1972. See 40 CFR 52.220(c)(6).
407 | Sulfur Compounds | April 18, 1972 | September 22, 1972, 37 FR 19812 | Submitted on June 30, 1972. See 40 CFR 52.220(c)(6).
407.1 | Disposal of Solid or Liquid Wastes | April 18, 1972 | September 22, 1972, 37 FR 19812 | Submitted on June 30, 1972. See 40 CFR 52.220(c)(6).
409 | Fuel Burning Equipment—Combustion Contaminants | May 7, 1998 | May 18, 1999, 64 FR 26876 | Submitted on June 23, 1998. See 40 CFR 52.220(c)(256)(i)(C)(2).
410 | Organic Solvents | December 17, 1974 | August 22, 1977, 42 FR 42219 | Submitted on January 10, 1975. See 40 CFR 52.220(c)(26)(xii)(A).
410.1A | Architectural Coating Controls | January 1, 2011 | July 6, 2011, 76 FR 39303 | Adopted by the Eastern Kern air district on March 11, 2010. Submitted on July 20, 2010. See 40 CFR 52.220(c)(381)(i)(B)(2).
410.2 | Disposal and Evaporation of Solvents | April 18, 1972 | September 22, 1972, 37 FR 19812 | Submitted on June 30, 1972. See 40 CFR 52.220(c)(6).
410.3 | Organic Solvent Degreasing Operations | May 7, 1998 | April 2, 1999, 64 FR 15922 | Submitted on June 23, 1998. See 40 CFR 52.220(c)(256)(i)(C)(2).
410.4 | Metal, Plastic, and Pleasure Craft Parts and Products Coating Operations | March 13, 2014 | May 17, 2016, 81 FR 30484 | Submitted on July 25, 2014. See 40 CFR 52.220(c)(447)(i)(D)(2).
410.4A | Motor Vehicle and Mobile Equipment Refinishing Operations | March 13, 2014 | July 25, 2016, 81 FR 48346 | Submitted on July 25, 2014. See 40 CFR 52.220(c)(447)(i)(D)(5).
410.5 | Cutback, Slow Cure and Emulsified Asphalt, Paving and Maintenance Operations | March 7, 1996 | February 6, 1998, 63 FR 6073 | Submitted on May 10, 1996. See 40 CFR 52.220(c)(231)(i)(B)(2).
410.6 | Perchloroethylene Dry Cleaning Systems | May 6, 1991 | April 24, 1992, 57 FR 15026 | Submitted on May 30, 1991. See 40 CFR 52.220(c)(185)(i)(A)(1).
410.6A | Petroleum Solvent Dry Cleaning Operations | May 6, 1991 | April 24, 1992, 57 FR 15026 | Submitted on May 30, 1991. See 40 CFR 52.220(c)(185)(i)(A)(1).
410.7 | Graphic Arts | March 7, 1996 | November 13, 1998, 63 FR 63410 | Submitted on May 10, 1996. See 40 CFR 52.220(c)(231)(i)(B)(4).
410.8 | Aerospace Assembly and Coating Operations | March 13, 2014 | May 17, 2016, 81 FR 30484 | Submitted on July 25, 2014. See 40 CFR 52.220(c)(447)(i)(D)(3).
410.9 | Wood Products Surface Coating Operations | March 13, 2014 | June 16, 2016, 81 FR 39211 | Submitted on July 25, 2014. See 40 CFR 52.220(c)(447)(i)(D)(4).
411 | Storage of Organic Liquids | March 7, 1996 | February 6, 1998, 63 FR 6073 | Submitted on May 10, 1996. See 40 CFR 52.220(c)(231)(i)(B)(2).
412 | Transfer of Gasoline into Stationary Storage Containers, Delivery Vessels, and Bulk Plants | May 6, 1991 | February 15, 1995, 60 FR 8565 | Submitted on May 30, 1991. See 40 CFR 52.220(c)(185)(i)(A)(7).
412.1 | Transfer of Gasoline into Vehicle Fuel Tanks | November 9, 1992 | October 7, 1996, 61 FR 52297 | Submitted on January 11, 1993. See 40 CFR 52.220(c)(191)(i)(D)(1).
413 | Organic Liquid Loading | March 7, 1996 | February 3, 2000, 65 FR 5259 | Submitted on May 10, 1996. See 40 CFR 52.220(c)(231)(i)(B)(7).
414 | Wastewater Separators | March 7, 1996 | August 17, 1998, 63 FR 43881 | Submitted on May 10, 1996. See 40 CFR 52.220(c)(231)(i)(B)(3).
414.1 | Valves, Pressure Relief Valves, Flanges, Threaded Connections and Process Drains at Petroleum Refineries and Chemical Plants | March 7, 1996 | February 3, 2000, 65 FR 5259 | Submitted on May 10, 1996. See 40 CFR 52.220(c)(231)(i)(B)(7).
414.5 | Pump and Compressor Seals at Petroleum Refineries and Chemical Plants | March 7, 1996 | February 6, 1998, 63 FR 6073 | Submitted on May 10, 1996. See 40 CFR 52.220(c)(231)(i)(B)(2).
415 | Reduction of Animal Matter | April 18, 1972 | September 22, 1972, 37 FR 19812 | Submitted on June 30, 1972. See 40 CFR 52.220(c)(6).
416 | Open Burning | July 11, 1996 | August 19, 1999, 64 FR 45170 | Submitted on October 18, 1996. See 40 CFR 52.220(c)(241)(i)(D)(1).
416.1 | Wood Burning Heaters and Wood Burning Fireplaces | July 8, 2004 | March 8, 2005, 70 FR 11123 | Submitted on September 23, 2004. See 40 CFR 52.220(c)(334)(i)(A)(1).
417 | Agricultural and Prescribed Burning | July 24, 2003 | April 22, 2004, 69 FR 21713; corrected on August 29, 2019, 84 FR 45422 | Submitted on November 4, 2003. See 40 CFR 52.220(c)(321)(i)(A)(1).
418 | Incinerator Burning | April 18, 1972 | September 22, 1972, 37 FR 19812 | Submitted on June 30, 1972. See 40 CFR 52.220(c)(6).
421 | Orchard Heaters | April 18, 1972 | September 22, 1972, 37 FR 19812 | Submitted on June 30, 1972. See 40 CFR 52.220(c)(6).
424 | Residential Water Heaters (Oxides of Nitrogen) | April 19, 1993 | October 28, 1999, 64 FR 57991 | Submitted on November 18, 1993. See 40 CFR 52.220(c)(194)(i)(B)(4).
425 | Stationary Gas Turbines (Oxides of Nitrogen) | January 11, 2018 | June 15, 2023, 88 FR 39182 | Submitted on May 23, 2018. See 40 CFR 52.220(c)(518)(i)(F)(1).
425.1 | Hot Mix Asphalt Paving Plants (Oxides of Nitrogen) | October 13, 1994 | August 1, 2000, 65 FR 46873 | Submitted on October 19, 1994. See 40 CFR 52.220(c)(202)(i)(B)(2).
425.2 | Boilers, Steam Generators, and Process Heaters (Oxides of Nitrogen) | March 8, 2018 | September 10, 2021, 86 FR 50645; corrected at 86 FR 56838 (October 13, 2021) | Submitted on August 22, 2018. See 40 CFR 52.220(c)(520)(i)(B)(1).
425.3 | Portland Cement Kilns (Oxides of Nitrogen) | March 8, 2018 | June 5, 2023, 88 FR 36479 | Submitted on August 22, 2018. See 40 CFR 52.220(c)(520)(i)(B)(2).
426 | Experimental Research Operations | December 15, 1980 | July 6, 1982, 47 FR 29231 | Submitted on March 23, 1981. See 40 CFR 52.220(c)(95)(i)(C).
427 | Stationary Piston Engines (Oxides of Nitrogen) | November 1, 2001 | February 26, 2002, 67 FR 8724 | Submitted on December 14, 2001. See 40 CFR 52.220(c)(290)(i)(A)(1).
431 | Propellant Combustion and Rocket Testing | March 8, 2007 | January 17, 2008, 73 FR 3192 | Adopted by the Kern County air district through Resolution No. 2007-003-03, Reference No. Item 3, Adoption of Amendments to Rules and Regulations of the Kern County Air Pollution Control District; to Wit: Rule 431 (Propellant Combustion and Rocket Testing). Submitted on August 24, 2007. See 40 CFR 52.220(c)(351)(i)(D)(2) and 40 CFR 52.220(c)(351)(i)(D)(2)(i).
432 | Polyester Resin Operations | March 13, 2014 | June 5, 2015, 80 FR 32026 | Submitted on July 25, 2014. See 40 CFR 52.220(c)(447)(i)(D)(1).
Regulation VI—Air Pollution Emergency Contingency Plan
601 | General Statement | March 19, 1974 | June 4, 1980, 45 FR 37689 | Submitted on July 19, 1974. See 40 CFR 52.220(c)(24)(vii)(C).
602 | Applicable Areas | March 19, 1974 | June 4, 1980, 45 FR 37689 | Submitted on July 19, 1974. See 40 CFR 52.220(c)(24)(vii)(C).
603 | Episode Criteria Levels | June 29, 1981 | June 21, 1982, 47 FR 26618 | Submitted on July 30, 1981. See 40 CFR 52.220(c)(101)(ii)(A).
604 | Episode Stages | March 19, 1974 | June 4, 1980, 45 FR 37689 | Submitted on July 19, 1974. See 40 CFR 52.220(c)(24)(vii)(C).
605 | Division of Responsibility | March 19, 1974 | June 4, 1980, 45 FR 37689 | Submitted on July 19, 1974. See 40 CFR 52.220(c)(24)(vii)(C).
606 | Administration of Emergency Program | March 19, 1974 | June 4, 1980, 45 FR 37689 | Submitted on July 19, 1974. See 40 CFR 52.220(c)(24)(vii)(C).
607 | Advisory of High Air Pollution Potential | March 19, 1974 | June 4, 1980, 45 FR 37689 | Submitted on July 19, 1974. See 40 CFR 52.220(c)(24)(vii)(C).
608 | Declaration of Episode | March 19, 1974 | June 4, 1980, 45 FR 37689 | Submitted on July 19, 1974. See 40 CFR 52.220(c)(24)(vii)(C).
609 | Episode Action Stage 1 (Health Advisory—Alert) | June 29, 1981 | June 21, 1982, 47 FR 26618 | Submitted on July 30, 1981. See 40 CFR 52.220(c)(101)(ii)(A).
610 | Episode Action Stage 2 (Warning) | June 29, 1981 | June 21, 1982, 47 FR 26618 | Submitted on July 30, 1981. See 40 CFR 52.220(c)(101)(ii)(A).
611 | Episode Action Stage 3 (Emergency) | June 29, 1981 | June 21, 1982, 47 FR 26618 | Submitted on July 30, 1981. See 40 CFR 52.220(c)(101)(ii)(A).
612 | Episode Termination | March 19, 1974 | June 4, 1980, 45 FR 37689 | Submitted on July 19, 1974. See 40 CFR 52.220(c)(24)(vii)(C).
613 | Stationary Source Curtailment Plans and Traffic Abatement Plans | June 29, 1981 | June 21, 1982, 47 FR 26618 | Submitted on July 30, 1981. See 40 CFR 52.220(c)(101)(ii)(A).
614 | Episode Abatement Plan | March 19, 1974 | June 4, 1980, 45 FR 37689 | Submitted on July 19, 1974. See 40 CFR 52.220(c)(24)(vii)(C).
615 | Enforcement | March 19, 1974 | June 4, 1980, 45 FR 37689 | Submitted on July 19, 1974. See 40 CFR 52.220(c)(24)(vii)(C).

Table 11—EPA-Approved El Dorado County Air Quality Management District Regulations
District citation | Title/subject | State effective date | EPA approval date | Additional explanation
Rules and Regulations (District-Wide Applicability)
Regulation I—General Provisions and Definitions
101 | General Provisions and Definitions | June 20, 2017 | November 12, 2020, 85 FR 71846 | Submitted on August 9, 2017. See 40 CFR 52.220(c)(503)(i)(C)(1).
Regulation II—Prohibitions
204 | Wet Plumes | February 26, 1975 | June 14, 1978, 43 FR 25674 | Submitted on April 10, 1975. See 40 CFR 52.220(c)(27)(viii)(A).
215 | Architectural Coatings | August 25, 2020 | July 9, 2021, 86 FR 36227 | Submitted on September 21, 2020, as an attachment to a letter dated September 18, 2020. See 40 CFR 52.220(c)(557)(i)(A)(1).
224 | Cutback and Emulsified Asphalt Paving Materials | September 27, 1994 | August 21, 1995, 60 FR 43383 | Submitted on November 30, 1994. See 40 CFR 52.220(c)(207)(i)(B)(1).
225 | Organic Solvent Cleaning and Degreasing Operations | September 27, 1994 | April 30, 1996, 61 FR 18962 | Submitted on November 30, 1994. See 40 CFR 52.220(c)(207)(i)(B)(4).
227 | Existing Sources | May 9, 1983 | May 3, 1984, 49 FR 18830 | Submitted on October 27, 1983. See 40 CFR 52.220(c)(148)(ii)(A).
228 | Compliance Tests | May 9, 1983 | May 3, 1984, 49 FR 18830 | Submitted on October 27, 1983. See 40 CFR 52.220(c)(148)(ii)(A).
229 | Industrial, Institutional, and Commercial Boilers, Steam Generators, and Process Heaters | January 23, 2001 | October 10, 2001, 66 FR 51578 | Submitted on May 23, 2001. See 40 CFR 52.220(c)(281)(i)(A)(2).
230 | Automotive Refinishing Operations | September 27, 1994 | April 30, 1996, 61 FR 18962 | Submitted on November 30, 1994. See 40 CFR 52.220(c)(207)(i)(B)(4).
231 | Graphic Arts Operations | September 27, 1994 | July 11, 1997, 62 FR 37136 | Submitted on November 30, 1994. See 40 CFR 52.220(c)(207)(i)(B)(2).
232 | Biomass Boilers | September 25, 2001 | October 14, 2003, 68 FR 59121 | Submitted on November 9, 2001. See 40 CFR 52.220(c)(296)(i)(A)(2).
233 | Stationary Internal Combustion Engines | June 11, 2002 | September 13, 2002, 67 FR 57960 | Submitted on July 2, 2002. See 40 CFR 52.220(c)(299)(i)(A)(1).
234 | VOC RACT Rule—Sierra Pacific Industries | April 25, 1995 | September 12, 1995, 60 FR 47273 | Submitted on June 16, 1995. See 40 CFR 52.220(c)(222)(i)(B)(1).
235 | Surface Preparation and Cleanup | June 27, 1995 | April 30, 1996, 61 FR 18962 | Submitted on October 13, 1995. See 40 CFR 52.220(c)(225)(i)(C)(2).
236 | Adhesives | June 27, 1995 | July 18, 1996, 61 FR 37390 | Submitted on October 13, 1995. See 40 CFR 52.220(c)(225)(i)(C)(1).
237 | Wood Products Coatings | June 27, 1995 | July 18, 1996, 61 FR 37390 | Submitted on October 13, 1995. See 40 CFR 52.220(c)(225)(i)(C)(1).
238 | Gasoline Transfer and Dispensing | March 27, 2001 | August 27, 2001, 66 FR 44974 | Submitted on May 23, 2001. See 40 CFR 52.220(c)(281)(i)(A)(1).
239 | Natural Gas-Fired Residential Water Heaters | March 24, 1998 | March 30, 1999, 64 FR 15129 | Submitted on June 23, 1998. See 40 CFR 52.220(c)(256)(i)(E)(1).
240 | Polyester Resin Operations | February 15, 2000 | July 17, 2001, 66 FR 37154 | Submitted on July 26, 2000. See 40 CFR 52.220(c)(280)(i)(B)(1).
244 | Organic Liquid Loading and Transport Vessels | September 25, 2001 | July 8, 2002, 67 FR 45066 | Submitted on November 9, 2001. See 40 CFR 52.220(c)(296)(i)(A)(1).
245 | Valves and Flanges | March 27, 2001 | August 27, 2001, 66 FR 44974 | Submitted on May 23, 2001. See 40 CFR 52.220(c)(281)(i)(A)(1).
Regulation IV—Permit Systems Requirements
401 | Responsibility | February 26, 1975 | June 14, 1978, 43 FR 25674 | Submitted on April 10, 1975. See 40 CFR 52.220(c)(27)(viii)(A).
Regulation V—Permit to Operate Regulations
501 | General Permit Requirements | April 26, 1994 | February 2, 2000, 65 FR 4887 | Submitted on May 24, 1994. See 40 CFR 52.220(c)(197)(i)(E)(1).
502 | General Conformity Rule | November 8, 1994 | April 23, 1999, 64 FR 19916 | Submitted on November 30, 1994. See 40 CFR 52.220(c)(207)(i)(B)(5).
520 | Enhanced Monitoring and Compliance Certification | June 27, 1995 | February 2, 2000, 65 FR 4887 | Submitted on October 13, 1995. See 40 CFR 52.220(c)(225)(i)(C)(3).
523 | New Source Review | April 26, 1994 | February 2, 2000, 65 FR 4887 | Submitted on May 24, 1994. See 40 CFR 52.220(c)(197)(i)(E)(1).
523-1 | Federal Non-Attainment New Source Review | December 7, 2021 | September 14, 2023, 88 FR 63031 | Submitted on March 9, 2022. See 40 CFR 52.220(c)(604)(i)(B)(1).
524 | Emission Reduction Credits | April 26, 1994 | February 2, 2000, 65 FR 4887 | Submitted on May 24, 1994. See 40 CFR 52.220(c)(197)(i)(E)(1).
525 | Priority Reserve | April 26, 1994 | February 2, 2000, 65 FR 4887 | Submitted on May 24, 1994. See 40 CFR 52.220(c)(197)(i)(E)(1).
Regulation IX—Emission Statements From Facility Owners/Operations Pursuant to the Clean Air Act Amendments of 1990
1000 | Emission Statement | August 25, 2020 | July 29, 2022, 87 FR 45657 | Submitted on September 22, 2020 as an attachment to a letter dated September 18, 2020. See 40 CFR 52.220(c)(575)(i)(A)(1).
1000.1 | Emission Statement Waiver | August 25, 2020 | July 29, 2022, 87 FR 45657 | Submitted on September 22, 2020 as an attachment to a letter dated September 18, 2020. See 40 CFR 52.220(c)(575)(i)(A)(2).
Ozone Emergency Episode Plan
No Citation | Ozone Emergency Episode Plan | January 12, 2016 | July 21, 2016, 81 FR 47300 | Submitted on April 6, 2016. See 40 CFR 52.220(c)(473)(i)(A)(1).
Rules and Regulations (Lake Tahoe Air Basin Portion of District)
Regulation I—General Provisions and Definitions
101 | Title | February 7, 1979 | May 18, 1981, 46 FR 27115 | Submitted on May 23, 1979. See 40 CFR 52.220(c)(51)(xiv)(A).
102 (all definitions but LAER, stationary source, and modification) | Definitions | February 7, 1979 | May 18, 1981, 46 FR 27115 | Submitted on May 23, 1979. See 40 CFR 52.220(c)(51)(xiv)(A).
102 (definitions for LAER, stationary source, and modifications only) | Definitions | February 7, 1979 | June 23, 1982, 47 FR 27065 | Submitted on May 23, 1979. See 40 CFR 52.220(c)(51)(xiv)(C).
103 | Validity | February 7, 1979 | May 18, 1981, 46 FR 27115 | Submitted on May 23, 1979. See 40 CFR 52.220(c)(51)(xiv)(A).
Regulation II—Prohibitions
201 | Coverage | February 7, 1979 | May 18, 1981, 46 FR 27115 | Submitted on May 23, 1979. See 40 CFR 52.220(c)(51)(xiv)(A).
202 | Visible Emissions | February 7, 1979 | May 18, 1981, 46 FR 27115 | Submitted on May 23, 1979. See 40 CFR 52.220(c)(51)(xiv)(A).
203 | Exceptions | February 7, 1979 | May 18, 1981, 46 FR 27115 | Submitted on May 23, 1979. See 40 CFR 52.220(c)(51)(xiv)(A).
206A | Incinerator Burning | February 7, 1979 | May 18, 1981, 46 FR 27115 | Submitted on May 23, 1979. See 40 CFR 52.220(c)(51)(xiv)(A).
206B | Pathological Incineration | February 7, 1979 | May 18, 1981, 46 FR 27115 | Submitted on May 23, 1979. See 40 CFR 52.220(c)(51)(xiv)(A).
207 | Particulate Matter | February 7, 1979 | May 18, 1981, 46 FR 27115 | Submitted on May 23, 1979. See 40 CFR 52.220(c)(51)(xiv)(A).
208 | Fugitive Dust | February 7, 1979 | May 18, 1981, 46 FR 27115 | Submitted on May 23, 1979. See 40 CFR 52.220(c)(51)(xiv)(A).
209 | Sulfur Content of Fuels | February 7, 1979 | May 18, 1981, 46 FR 27115 | Submitted on May 23, 1979. See 40 CFR 52.220(c)(51)(xiv)(A).
209 | Fossil Fuel-Steam Generator Facility | February 26, 1975 | June 14, 1978, 43 FR 25674 | Submitted on April 10, 1975. See 40 CFR 52.220(c)(27)(viii)(A). Originally adopted for district-wide applicability but rule was superseded by approval of Rule 209 for the Mountain Counties Air Basin portion of the district.
210 | Specific Contaminants | February 7, 1979 | May 18, 1981, 46 FR 27115 | Submitted on May 23, 1979. See 40 CFR 52.220(c)(51)(xiv)(A).
211 | Process Weight | February 7, 1979 | May 18, 1981, 46 FR 27115 | Submitted on May 23, 1979. See 40 CFR 52.220(c)(51)(xiv)(A).
212 | Abrasive Blasting | February 7, 1979 | May 18, 1981, 46 FR 27115 | Submitted on May 23, 1979. See 40 CFR 52.220(c)(51)(xiv)(A).
217 | Compliance Tests | February 7, 1979 | May 18, 1981, 46 FR 27115 | Submitted on May 23, 1979. See 40 CFR 52.220(c)(51)(xiv)(A).
Regulation III—Open Burning
301 | Prohibition on Open Burning | February 7, 1979 | May 18, 1981, 46 FR 27115 | Submitted on May 23, 1979. See 40 CFR 52.220(c)(51)(xiv)(A).
302, excluding paragraph (C) | Exceptions to Rule 301 | February 7, 1979 | May 18, 1981, 46 FR 27115 | Submitted on May 23, 1979. See 40 CFR 52.220(c)(51)(xiv)(A).
303 | Burning Permits | February 7, 1979 | May 18, 1981, 46 FR 27115 | Submitted on May 23, 1979. See 40 CFR 52.220(c)(51)(xiv)(A).
304 | Permit Validity | February 7, 1979 | May 18, 1981, 46 FR 27115 | Submitted on May 23, 1979. See 40 CFR 52.220(c)(51)(xiv)(A).
305 | No-Burn Days | February 7, 1979 | May 18, 1981, 46 FR 27115 | Submitted on May 23, 1979. See 40 CFR 52.220(c)(51)(xiv)(A).
306 | Exceptions to Rule 305 | February 7, 1979 | May 27, 1982, 47 FR 23159 | Submitted on May 23, 1979. See 40 CFR 52.220(c)(51)(xiv)(B).
307 | Agricultural Burning Reports | February 7, 1979 | May 18, 1981, 46 FR 27115 | Submitted on May 23, 1979. See 40 CFR 52.220(c)(51)(xiv)(A).
308 | Amount Burned Daily | February 7, 1979 | May 18, 1981, 46 FR 27115 | Submitted on May 23, 1979. See 40 CFR 52.220(c)(51)(xiv)(A).
309 | Approved Ignition Devices | February 7, 1979 | May 18, 1981, 46 FR 27115 | Submitted on May 23, 1979. See 40 CFR 52.220(c)(51)(xiv)(A).
310 | Restricted Burning Days | February 7, 1979 | May 18, 1981, 46 FR 27115 | Submitted on May 23, 1979. See 40 CFR 52.220(c)(51)(xiv)(A).
312 | Wind Direction | February 26, 1975 | June 14, 1978, 43 FR 25674 | Submitted on April 10, 1975. See 40 CFR 52.220(c)(27)(viii)(A). Originally adopted for district-wide applicability but rule was superseded by approval of Rule 316 for the Mountain Counties Air Basin portion of the district.
312 | Minimum Drying Times | February 7, 1979 | May 18, 1981, 46 FR 27115 | Submitted on May 23, 1979. See 40 CFR 52.220(c)(51)(xiv)(A).
313 | Exceptions to Rule 312 | February 7, 1979 | May 18, 1981, 46 FR 27115 | Submitted on May 23, 1979. See 40 CFR 52.220(c)(51)(xiv)(A).
314 | Preparation of Material to be Burned | February 7, 1979 | May 18, 1981, 46 FR 27115 | Submitted on May 23, 1979. See 40 CFR 52.220(c)(51)(xiv)(A).
315 | Burning of Agricultural Waste | February 7, 1979 | May 18, 1981, 46 FR 27115 | Submitted on May 23, 1979. See 40 CFR 52.220(c)(51)(xiv)(A).
316 | Range Improvement Burning | February 7, 1979 | May 18, 1981, 46 FR 27115 | Submitted on May 23, 1979. See 40 CFR 52.220(c)(51)(xiv)(A).
317 | Forest Management Burning | February 7, 1979 | May 18, 1981, 46 FR 27115 | Submitted on May 23, 1979. See 40 CFR 52.220(c)(51)(xiv)(A).
319 | Right-of-Way Clearing and Levee, Ditch and Reservoir Maintenance Burning | February 7, 1979 | May 18, 1981, 46 FR 27115 | Submitted on May 23, 1979. See 40 CFR 52.220(c)(51)(xiv)(A).
320 | Hazard Reduction Burning | February 7, 1979 | May 18, 1981, 46 FR 27115 | Submitted on May 23, 1979. See 40 CFR 52.220(c)(51)(xiv)(A).
Regulation IV—Permit Systems Conditions
404 | Upset Conditions, Breakdown or Scheduled Maintenance | February 7, 1979 | May 18, 1981, 46 FR 27115 | Submitted on May 23, 1979. See 40 CFR 52.220(c)(51)(xiv)(A).
405 | Separation of Emissions | February 26, 1975 | June 14, 1978, 43 FR 25674 | Submitted on April 10, 1975. See 40 CFR 52.220(c)(27)(viii)(A). Originally adopted for district-wide applicability but rule was superseded by approval of Rule 510 for the Mountain Counties Air Basin portion of the district.
406 | Combination of Emissions | February 26, 1975 | June 14, 1978, 43 FR 25674 | Submitted on April 10, 1975. See 40 CFR 52.220(c)(27)(viii)(A). Originally adopted for district-wide applicability but rule was superseded by approval of Rule 511 for the Mountain Counties Air Basin portion of the district.
407 | Circumvention | February 26, 1975 | June 14, 1978, 43 FR 25674 | Submitted on April 10, 1975. See 40 CFR 52.220(c)(27)(viii)(A). Originally adopted for district-wide applicability but rule was superseded by approval of Rule 512 for the Mountain Counties Air Basin portion of the district.
409 | Public Records | December 31, 1976 | November 6, 1978, 43 FR 51632 | Submitted on November 4, 1977. See 40 CFR 52.220(c)(42)(x)(A). Originally adopted for district-wide applicability but rule was superseded by approval of Rule 514 for the Mountain Counties Air Basin portion of the district.
Rules and Regulations (Mountain Counties Air Basin Portion of District)
Regulation II—Prohibitions
202 | Visible Emissions | February 26, 1975 | June 14, 1978, 43 FR 25674 | Submitted on April 10, 1975. See 40 CFR 52.220(c)(27)(viii)(A). Originally adopted for district-wide applicability but rule was superseded by approval of Rule 202 for the Lake Tahoe Air Basin portion of the district.
203 | Exceptions | September 13, 1982 | November 18, 1983, 48 FR 52450 | Submitted on April 11, 1983. See 40 CFR 52.220(c)(138)(ii)(A).
206 | Incinerator Burning | September 13, 1982 | November 18, 1983, 48 FR 52450 | Submitted on April 11, 1983. See 40 CFR 52.220(c)(138)(ii)(A).
207 | Particulate Matter | September 13, 1982 | November 18, 1983, 48 FR 52450 | Submitted on April 11, 1983. See 40 CFR 52.220(c)(138)(ii)(A).
209 | Fossil Fuel-Steam Generating Facility | September 13, 1982 | November 18, 1983, 48 FR 52450 | Submitted on April 11, 1983. See 40 CFR 52.220(c)(138)(ii)(A).
210 | Specific Contaminants | September 13, 1982 | November 18, 1983, 48 FR 52450 | Submitted on April 11, 1983. See 40 CFR 52.220(c)(138)(ii)(A).
211 | Process Weight Per Hour | September 13, 1982 | November 18, 1983, 48 FR 52450 | Submitted on April 11, 1983. See 40 CFR 52.220(c)(138)(ii)(A).
212 | Process Weight Table | September 13, 1982 | November 18, 1983, 48 FR 52450 | Submitted on April 11, 1983. See 40 CFR 52.220(c)(138)(ii)(A).
216 | Organic Compounds | March 12, 1984 | January 24, 1985, 50 FR 3338 | Submitted on July 10, 1984. See 40 CFR 52.220(c)(155)(ii)(A).
217 | Acid Mist | March 12, 1984 | January 29, 1985, 50 FR 3906 | Submitted on July 10, 1984. See 40 CFR 52.220(c)(155)(ii)(B).
218 | Perchloroethylene Dry Cleaning Operations | September 13, 1982 | November 18, 1983, 48 FR 52450 | Submitted on April 11, 1983. See 40 CFR 52.220(c)(138)(ii)(A).
219 | Emission Control Requirements | September 13, 1982 | November 18, 1983, 48 FR 52450 | Submitted on April 11, 1983. See 40 CFR 52.220(c)(138)(ii)(A).
220 | Exemptions to Rule 218 and Rule 219 | September 13, 1982 | November 18, 1983, 48 FR 52450 | Submitted on April 11, 1983. See 40 CFR 52.220(c)(138)(ii)(A).
221 | Reduction of Animal Matter | September 13, 1982 | November 18, 1983, 48 FR 52450 | Submitted on April 11, 1983. See 40 CFR 52.220(c)(138)(ii)(A).
222 | Abrasive Blasting | September 13, 1982 | November 18, 1983, 48 FR 52450 | Submitted on April 11, 1983. See 40 CFR 52.220(c)(138)(ii)(A).
223 | Fugitive Dust | September 13, 1982 | November 18, 1983, 48 FR 52450 | Submitted on April 11, 1983. See 40 CFR 52.220(c)(138)(ii)(A).
Regulation III—Open Burning
301 | Prohibition from Burning | April 13, 1981 | May 27, 1982, 47 FR 23159 | Submitted on October 23, 1981. See 40 CFR 52.220(c)(103)(xiii)(A).
302 | Exceptions to Rule 301 | April 13, 1981 | May 27, 1982, 47 FR 23159 | Submitted on October 23, 1981. See 40 CFR 52.220(c)(103)(xiii)(A).
303 | Agricultural Burning | April 13, 1981 | May 27, 1982, 47 FR 23159 | Submitted on October 23, 1981. See 40 CFR 52.220(c)(103)(xiii)(A).
304 | Range Improvement Burning | April 13, 1981 | May 27, 1982, 47 FR 23159 | Submitted on October 23, 1981. See 40 CFR 52.220(c)(103)(xiii)(A).
305 | Forest Management Burning | April 13, 1981 | May 27, 1982, 47 FR 23159 | Submitted on October 23, 1981. See 40 CFR 52.220(c)(103)(xiii)(A).
306 | Land Development Burning | April 13, 1981 | May 27, 1982, 47 FR 23159 | Submitted on October 23, 1981. See 40 CFR 52.220(c)(103)(xiii)(A).
307 | Ditch and Road Maintenance | April 13, 1981 | May 27, 1982, 47 FR 23159 | Submitted on October 23, 1981. See 40 CFR 52.220(c)(103)(xiii)(A).
308 | Hazard Reduction | April 13, 1981 | May 27, 1982, 47 FR 23159 | Submitted on October 23, 1981. See 40 CFR 52.220(c)(103)(xiii)(A).
309 | Fire Suppression and Training | April 13, 1981 | May 27, 1982, 47 FR 23159 | Submitted on October 23, 1981. See 40 CFR 52.220(c)(103)(xiii)(A).
310 | Residential Maintenance | April 13, 1981 | May 27, 1982, 47 FR 23159 | Submitted on October 23, 1981. See 40 CFR 52.220(c)(103)(xiii)(A).
311 | Recreational Activity | April 13, 1981 | May 27, 1982, 47 FR 23159 | Submitted on October 23, 1981. See 40 CFR 52.220(c)(103)(xiii)(A).
312 | Required Permit | April 13, 1981 | May 27, 1982, 47 FR 23159 | Submitted on October 23, 1981. See 40 CFR 52.220(c)(103)(xiii)(A).
313 | No Burn Day | April 13, 1981 | May 27, 1982, 47 FR 23159 | Submitted on October 23, 1981. See 40 CFR 52.220(c)(103)(xiii)(A).
314 | Burning Permits | April 13, 1981 | May 27, 1982, 47 FR 23159 | Submitted on October 23, 1981. See 40 CFR 52.220(c)(103)(xiii)(A).
315 | Minimum Drying Times | April 13, 1981 | May 27, 1982, 47 FR 23159 | Submitted on October 23, 1981. See 40 CFR 52.220(c)(103)(xiii)(A).
316 | Burning Management | April 13, 1981 | May 27, 1982, 47 FR 23159 | Submitted on October 23, 1981. See 40 CFR 52.220(c)(103)(xiii)(A).
317 | Mechanized Burners | April 13, 1981 | May 27, 1982, 47 FR 23159 | Submitted on October 23, 1981. See 40 CFR 52.220(c)(103)(xiii)(A).
Regulation V—Permit to Operate Regulations
514 | Public Records and Trade Secrets | December 10, 1979 | May 27, 1982, 47 FR 23159 | Submitted on April 17, 1980. See 40 CFR 52.220(c)(119)(i)(A).
516 | Upset and Breakdown Conditions | December 10, 1979 | May 27, 1982, 47 FR 23159 | Submitted on April 17, 1980. See 40 CFR 52.220(c)(119)(i)(A).

* * * * *

[FR Doc. 2025-10000 Filed 6-3-25; 8:45 am]

BILLING CODE 6560-50-P